FEDERAL COMMUNICATIONS COMMISSION

47 CFR Part 2

[DA 02-1872]

Non-Substantive Revisions to the Table of Frequency Allocation

AGENCY: Federal Communications Commission.

ACTION: Final rule.

SUMMARY: This document revises the Commission's Table of Frequency Allocations (“Allocation Table”). Specifically, it updates the International Table of Frequency Allocations (“International Table”). In order to assist the Federal Register staff in codifying international footnotes and in order to prevent confusion to the public, we are updating the Commission's Allocation Table in its entirety in order to remove the “S” prefix from the international footnotes. We also take this opportunity to update the International Table within our rules to reflect the Table of Frequency Allocations as it is found in the ITU Radio Regulations. The Commission believes that this action will assist users of the Allocation Table with their spectrum planning.

DATES: Effective September 23, 2002.

FOR FURTHER INFORMATION CONTACT: Tom Mooring, (202) 418-2450, or Shameeka Parrott, (202) 418-2062, Policy and Rules Division, Office of Engineering and Technology.

SUPPLEMENTARY INFORMATION: This is a summary of the Commission's Order, DA 02-1872, adopted August 1, 2002, and released August 5, 2002. The full text of this document is available for inspection and copying during regular business hours in the FCC Reference Center (Room CY-A257), 445 12th Street, SW., Washington, DC 20554. The complete text of this document also may be purchased from the Commission's copy contractor, Qualex International, 445 12th Street, SW., Room, CY-B402, Washington, DC 20554. The full text may also be downloaded at: http://www.fcc.gov. Alternative formats are available to persons with disabilities by contacting Brian Millin at (202) 418-7426 or TTY (202) 418-7365.

Summary of the Order

1. This Order amends the Commission's Table of Frequency Allocations (“Allocation Table”) to update the International Table of Frequency Allocations (“International Table”). The International Table is provided in § 2.106 of our Rules for informational purposes only and is being updated to reflect the 2001 International Telecommunication Union (“ITU”) Radio Regulations. As a consequence of updating the international footnotes within the International Table, we are also revising footnote US342 (which concerns the protection of the radio astronomy service (“RAS”) in various frequency bands allocated to other services) and are re-numbering the existing versions of nine revised international footnotes as United States footnotes, thereby maintaining the status quo for the United States Table of Frequency Allocations (“United States Table”) until the Commission can consider the substantive changes in future proceedings. This ministerial action does not make any substantive changes to our Allocation Table and thus, does not change any licensee's legal rights or responsibilities.

2. The Commission's Allocation Table, which is codified at § 2.106 of our rules, consists of three tables: the International Table, the United States Table, and cross references to other parts of our rules.

International Table

3. For the allocation of frequencies, the ITU has divided the world into three Regions and codifies the allocations for these Regions in its Table of Frequency Allocations. In § 2.106 of our rules, the ITU's Table of Frequency Allocations has been re-named as the International Table. The International Table is subdivided into the Region 1 Table (column 1), the Region 2 Table (column 2), and the Region 3 Table (column 3). The International Table is included in our rules for informational purposes only.

4. The ITU Radio Regulations, Edition of 2001, became effective internationally on January 1, 2002, except as provided in the references in Article 59. We are updating § 2.100 of our rules to reflect this fact. In its 2001 Radio Regulations, the ITU modified the international footnotes to its Table of Frequency Allocations by deleting the “S” prefix. For example, international footnote S5.53 was revised as international footnote 5.53. In addition, the ITU modified certain international footnotes to remove the “S” prefix from references to the Radio Regulations. For example, Article S31 was revised as Article 31 in footnote 5.110.

5. In order to assist the Federal Register in codifying international footnotes and in order to prevent confusion to the public, we are updating the Commission's Allocation Table in its entirety in order to remove the “S” prefix from the international footnotes. In addition, we take this opportunity to update the International Table within our rules to reflect the Table of Frequency Allocations as it is found in the ITU Radio Regulations, Edition of 2001, Article 5, Section IV. We believe that this action will assist users of the Allocation Table with their spectrum planning.

Ministerial Changes to the United States Table

6. In the United States, radio spectrum may be allocated to either Federal Government or non-Federal Government use exclusively, or for shared use. As such, the United States Table is subdivided into the Federal Government Table of Frequency Allocations (“Federal Government Table”) and the Non-Federal Government Table of Frequency Allocations (“Non-Federal Government Table”). The Federal Government Table (column 4) is administered by the National Telecommunications and Information Administration (“NTIA”), whereas the Non-Federal Government Table (column 5) is administered by the Commission.

7. Over the course of time, the Commission has adopted numerous international footnotes domestically and added them to the United States Table. We have reviewed each of these international footnotes. In order to update the International Table without making substantive changes to the United States Table, we have revised footnote US342 (which concerns the protection of the RAS in various frequency bands allocated to other services) and are re-numbering the existing versions of nine revised international footnotes as United States footnotes until such time as the Commission can consider these allocation changes to the United States Table.

Administrative Procedures Act Requirements and Ordering Clause

8. The International Table and FCC rule part(s) are included in the Commission's rules for informational purposes only. The United States Table is amended herein by incorporating non-substantive, editorial revisions only. Therefore, there is good cause for not using notice and comment procedure in this case, and for shortening the effective date of the amendments from a date not less than 30 days after publication in the Federal Register to the date of such publication. We find that the normal procedures for notice and comment and for publication as required under Section 553 of the Administrative Procedures Act would be impracticable, unnecessary, or contrary to the public interest. See 5 U.S.C. 553(b)(3)(B), (d)(3); Kessler v. FCC, 326 F.2d 673 (D.C. Cir. 1963).

9. Part 2 of the Commission's rules, 47 CFR part 2, IS AMENDED as set forth, effective September 23, 2002. This action is taken pursuant to authority found in §§ 4(i) and 303 of the Communications Act of 1934, as amended, 47 U.S.C. 154(i) and 303, and in §§ 0.31, 0.231(b) and 0.241 of the Commission's rules, 47 CFR 0.31, 0.231(b) and 0.241.

List of Subjects in 47 CFR Part 2

Radio, Reporting and recordkeeping requirements.

Federal Communications Commission.
Marlene H. Dortch,
Secretary.

Rule Changes

For the reasons discussed in the preamble, the Federal Communications Commission amends 47 CFR part 2 as follows:

PART 2—FREQUENCY ALLOCATIONS AND RADIO TREATY MATTERS; GENERAL

Rules and Regulations

1. The authority citation for Part 2 continues to read as follows:

Authority: 47 U.S.C. 154, 302a, 303, and 336, unless otherwise noted.

2. Section 2.100 is revised to read as follows:

§ 2.100 International regulations in force.

The International Radiocommunication Union Radio Regulations, Edition of 2001, became effective internationally on January 1, 2002, except as provided in the references in Article 59.

3. Section 2.106, the Table of Frequency Allocations, is amended as follows:

a. The Table proceeding the international footnotes is revised and shall begin on the left-hand page.

b. The international footnote section is amended by revising the note immediately following the heading and by revising the list of international footnotes under heading I.

c. In the list of international footnotes under heading II, remove footnote 909.

d. In the list of United States footnotes, revise footnotes US342 and US356; and add footnotes US369, US370, US371, US372, US373, US374, US375, US376, and US377.

e. In the list of non-Federal Government footnotes, revise footnote NG143.

§ 2.106 Table of Frequency Allocations.

The revisions and additions read as follows:

* * * * *

BILLING CODE 6712-01-P

BILLING CODE 6712-01-C

International Footnotes

Note: The International Telecommunication Union has re-numbered international footnotes using a new numbering scheme and has substantively revised the text of certain of these international footnotes. These international footnotes shall be listed immediately below this note in I. Until such time as the Commission has considered the substantively revised international footnotes that have previously been adopted domestically, certain of the old international footnotes shall apply in the United States. These footnotes appear immediately after footnote 5.565 in II.

I. New Numbering Scheme

5.53 Administrations authorizing the use of frequencies below 9 kHz shall ensure that no harmful interference is caused thereby to the services to which the bands above 9 kHz are allocated.

5.54 Administrations conducting scientific research using frequencies below 9 kHz are urged to advise other administrations that may be concerned in order that such research may be afforded all practicable protection from harmful interference.

5.55 Additional allocation: in Armenia, Azerbaijan, Bulgaria, Georgia, Kyrgyzstan, the Russian Federation, Tajikistan and Turkmenistan, the band 14-17 kHz is also allocated to the radionavigation service on a primary basis.

5.56 The stations of services to which the bands 14-19.95 kHz and 20.05-70 kHz and in Region 1 also the bands 72-84 kHz and 86-90 kHz are allocated may transmit standard frequency and time signals. Such stations shall be afforded protection from harmful interference. In Armenia, Azerbaijan, Belarus, Bulgaria, Georgia, Kazakstan, Mongolia, Uzbekistan, Kyrgyzstan, Slovakia, the Czech Rep., Russian Federation, Tajikistan, Turkmenistan and Ukraine, the frequencies 25 kHz and 50 kHz will be used for this purpose under the same conditions.

5.57 The use of the bands 14-19.95 kHz, 20.05-70 kHz and 70-90 kHz (72-84 kHz and 86-90 kHz in Region 1) by the maritime mobile service is limited to coast radiotelegraph stations (A1A and F1B only). Exceptionally, the use of class J2B or J7B emissions is authorized subject to the necessary bandwidth not exceeding that normally used for class A1A or F1B emissions in the band concerned.

5.58 Additional allocation: in Armenia, Azerbaijan, Georgia, Kazakstan, Kyrgyzstan, the Russian Federation, Tajikistan and Turkmenistan, the band 67-70 kHz is also allocated to the radionavigation service on a primary basis.

5.59 Different category of service: in Bangladesh and Pakistan, the allocation of the bands 70-72 kHz and 84-86 kHz to the fixed and maritime mobile services is on a primary basis (see No. 5.33).

5.60 In the bands 70-90 kHz (70-86 kHz in Region 1) and 110-130 kHz (112-130 kHz in Region 1), pulsed radionavigation systems may be used on condition that they do not cause harmful interference to other services to which these bands are allocated.

5.61 In Region 2, the establishment and operation of stations in the maritime radionavigation service in the bands 70-90 kHz and 110-130 kHz shall be subject to agreement obtained under No. 9.21 with administrations whose services, operating in accordance with the Table, may be affected. However, stations of the fixed, maritime mobile and radiolocation services shall not cause harmful interference to stations in the maritime radionavigation service established under such agreements.

5.62 Administrations which operate stations in the radionavigation service in the band 90-110 kHz are urged to coordinate technical and operating characteristics in such a way as to avoid harmful interference to the services provided by these stations.

5.64 Only classes A1A or F1B, A2C, A3C, F1C or F3C emissions are authorized for stations of the fixed service in the bands allocated to this service between 90 kHz and 160 kHz (148.5 kHz in Region 1) and for stations of the maritime mobile service in the bands allocated to this service between 110 kHz and 160 kHz (148.5 kHz in Region 1). Exceptionally, class J2B or J7B emissions are also authorized in the bands between 110 kHz and 160 kHz (148.5 kHz in Region 1) for stations of the maritime mobile service.

5.65 Different category of service: in Bangladesh, the allocation of the bands 112-117.6 kHz and 126-129 kHz to the fixed and maritime mobile services is on a primary basis (see No. 5.33).

5.66 Different category of service: in Germany, the allocation of the band 115-117.6 kHz to the fixed and maritime mobile services is on a primary basis (see No. 5.33) and to the radionavigation service on a secondary basis (see No. 5.32).

5.67 Additional allocation: in Azerbaijan, Bulgaria, Mongolia, Kyrgyzstan, Romania and Turkmenistan, the band 130-148.5 kHz is also allocated to the radionavigation service on a secondary basis. Within and between these countries this service shall have an equal right to operate.

5.68 Alternative allocation: in Angola, Botswana, Burundi, the Congo, Malawi, Dem. Rep. of the Congo, Rwanda and South Africa, the band 160-200 kHz is allocated to the fixed service on a primary basis.

5.69 Additional allocation: in Somalia, the band 200-255 kHz is also allocated to the aeronautical radionavigation service on a primary basis.

5.70 Alternative allocation: in Angola, Botswana, Burundi, Cameroon, the Central African Rep., the Congo, Ethiopia, Kenya, Lesotho, Madagascar, Malawi, Mozambique, Namibia, Nigeria, Oman, Dem. Rep. of the Congo, Rwanda, South Africa, Swaziland, Tanzania, Chad, Zambia and Zimbabwe, the band 200-283.5 kHz is allocated to the aeronautical radionavigation service on a primary basis.

5.71 Alternative allocation: in Tunisia, the band 255-283.5 kHz is allocated to the broadcasting service on a primary basis.

5.72 Norwegian stations of the fixed service situated in northern areas (north of 60° N) subject to auroral disturbances are allowed to continue operation on four frequencies in the bands 283.5-490 kHz and 510-526.5 kHz.

5.73 The band 285-325 kHz (283.5-325 kHz in Region 1) in the maritime radionavigation service may be used to transmit supplementary navigational information using narrow-band techniques, on condition that no harmful interference is caused to radiobeacon stations operating in the radionavigation service.

5.74 Additional Allocation: in Region 1, the frequency band 285.3-285.7 kHz is also allocated to the maritime radionavigation service (other than radiobeacons) on a primary basis.

5.75 Different category of service: in Armenia, Azerbaijan, Belarus, Georgia, Moldova, Kyrgyzstan, the Russian Federation, Tajikistan, Turkmenistan, Ukraine and the Black Sea areas of Bulgaria and Romania, the allocation of the band 315-325 kHz to the maritime radionavigation service is on a primary basis under the condition that in the Baltic Sea area, the assignment of frequencies in this band to new stations in the maritime or aeronautical radionavigation services shall be subject to prior consultation between the administrations concerned.

5.76 The frequency 410 kHz is designated for radio direction-finding in the maritime radionavigation service. The other radionavigation services to which the band 405-415 kHz is allocated shall not cause harmful interference to radio direction-finding in the band 406.5-413.5 kHz.

5.77 Different category of service: in Australia, China, the French Overseas Territories of Region 3, India, Indonesia (until 1 January 2005), Iran (Islamic Republic of), Japan, Pakistan, Papua New Guinea and Sri Lanka, the allocation of the band 415-495 kHz to the aeronautical radionavigation service is on a primary basis. Administrations in these countries shall take all practical steps necessary to ensure that aeronautical radionavigation stations in the band 435-495 kHz do not cause interference to reception by coast stations of ship stations transmitting on frequencies designated for ship stations on a worldwide basis (see No. 52.39).

5.78 Different category of service: in Cuba, the United States of America and Mexico, the allocation of the band 415-435 kHz to the aeronautical radionavigation service is on a primary basis.

5.79 The use of the bands 415-495 kHz and 505-526.5 kHz (505-510 kHz in Region 2) by the maritime mobile service is limited to radiotelegraphy.

5.79A When establishing coast stations in the NAVTEX service on the frequencies 490 kHz, 518 kHz and 4 209.5 kHz, administrations are strongly recommended to coordinate the operating characteristics in accordance with the procedures of the International Maritime Organization (IMO) (see Resolution 339 (Rev.WRC-97)).

5.80 In Region 2, the use of the band 435-495 kHz by the aeronautical radionavigation service is limited to non-directional beacons not employing voice transmission.

5.82 In the maritime mobile service, the frequency 490 kHz is, from the date of full implementation of the GMDSS (see Resolution 331 (Rev.WRC-97)), to be used exclusively for the transmission by coast stations of navigational and meteorological warnings and urgent information to ships, by means of narrow-band direct-printing telegraphy. The conditions for use of the frequency 490 kHz are prescribed in Articles 31 and 52. In using the band 415-495 kHz for the aeronautical radionavigation service, administrations are requested to ensure that no harmful interference is caused to the frequency 490 kHz.

5.83 The frequency 500 kHz is an international distress and calling frequency for Morse radiotelegraphy. The conditions for its use are prescribed in Articles 31 and 52, and in Appendix 13.

5.84 The conditions for the use of the frequency 518 kHz by the maritime mobile service are prescribed in Articles 31 and 52 and in Appendix 13.

5.86 In Region 2, in the band 525-535 kHz the carrier power of broadcasting stations shall not exceed 1 kW during the day and 250 W at night.

5.87 Additional allocation: in Angola, Botswana, Lesotho, Malawi, Mozambique, Namibia, South Africa, Swaziland, Zambia and Zimbabwe, the band 526.5-535 kHz is also allocated to the mobile service on a secondary basis.

5.87A Additional allocation: in Uzbekistan, the band 526.5-1606.5 kHz is also allocated to the radionavigation service on a primary basis. Such use is subject to agreement obtained under No. 9.21 with administrations concerned and limited to ground-based radiobeacons in operation on 27 October 1997 until the end of their lifetime.

5.88 Additional allocation: in China, the band 526.5-535 kHz is also allocated to the aeronautical radionavigation service on a secondary basis.

5.89 In Region 2, the use of the band 1605-1705 kHz by stations of the broadcasting service is subject to the Plan established by the Regional Administrative Radio Conference (Rio de Janeiro, 1988).

The examination of frequency assignments to stations of the fixed and mobile services in the band 1625-1705 kHz shall take account of the allotments appearing in the Plan established by the Regional Administrative Radio Conference (Rio de Janeiro, 1988).

5.90 In the band 1605-1705 kHz, in cases where a broadcasting station of Region 2 is concerned, the service area of the maritime mobile stations in Region 1 shall be limited to that provided by ground-wave propagation.

5.91 Additional allocation: in the Philippines and Sri Lanka, the band 1606.5-1705 kHz is also allocated to the broadcasting service on a secondary basis.

5.92 Some countries of Region 1 use radiodetermination systems in the bands 1606.5-1625 kHz, 1635-1800 kHz, 1850-2160 kHz, 2194-2300 kHz, 2502-2850 kHz and 3500-3800 kHz, subject to agreement obtained under No. 9.21. The radiated mean power of these stations shall not exceed 50 W.

5.93 Additional allocation: in Angola, Armenia, Azerbaijan, Belarus, Georgia, Hungary, Kazakstan, Latvia, Lithuania, Moldova, Mongolia, Nigeria, Uzbekistan, Poland, Kyrgyzstan, Slovakia, the Czech Rep., the Russian Federation, Tajikistan, Chad, Turkmenistan and Ukraine, the bands 1625-1635 kHz, 1800-1810 kHz and 2160-2170 kHz and, in Bulgaria, the bands 1625-1635 kHz and 1800-1810 kHz, are also allocated to the fixed and land mobile services on a primary basis, subject to agreement obtained under No. 9.21.

5.96 In Germany, Armenia, Austria, Azerbaijan, Belarus, Denmark, Estonia, Finland, Georgia, Hungary, Ireland, Israel, Jordan, Kazakstan, Latvia, Liechtenstein, Lithuania, Malta, Moldova, Norway, Uzbekistan, Poland, Kyrgyzstan, Slovakia, the Czech Rep., the United Kingdom, the Russian Federation, Sweden, Switzerland, Tajikistan, Turkmenistan and Ukraine, administrations may allocate up to 200 kHz to their amateur service in the bands 1715-1800 kHz and 1850-2000 kHz. However, when allocating the bands within this range to their amateur service, administrations shall, after prior consultation with administrations of neighbouring countries, take such steps as may be necessary to prevent harmful interference from their amateur service to the fixed and mobile services of other countries. The mean power of any amateur station shall not exceed 10 W.

5.97 In Region 3, the Loran system operates either on 1850 kHz or 1950 kHz, the bands occupied being 1825-1875 kHz and 1925-1975 kHz respectively. Other services to which the band 1800-2000 kHz is allocated may use any frequency therein on condition that no harmful interference is caused to the Loran system operating on 1850 kHz or 1950 kHz.

5.98 Alternative allocation: in Angola, Armenia, Azerbaijan, Belarus, Belgium, Bulgaria, Cameroon, the Congo, Denmark, Egypt, Eritrea, Spain, Ethiopia, Georgia, Greece, Italy, Kazakstan, Lebanon, Lithuania, Moldova, the Netherlands, Syria, Kyrgyzstan, the Russian Federation, Somalia, Tajikistan, Tunisia, Turkmenistan, Turkey and Ukraine, the band 1810-1830 kHz is allocated to the fixed and mobile, except aeronautical mobile, services on a primary basis.

5.99 Additional allocation: in Saudi Arabia, Austria, Bosnia and Herzegovina, Iraq, Libya, Uzbekistan, Slovakia, the Czech Rep., Romania, Slovenia, Chad, Togo and Yugoslavia, the band 1810-1830 kHz is also allocated to the fixed and mobile, except aeronautical mobile, services on a primary basis.

5.100 In Region 1, the authorization to use the band 1810-1830 kHz by the amateur service in countries situated totally or partially north of 40° N shall be given only after consultation with the countries mentioned in Nos. 5.98 and 5.99 to define the necessary steps to be taken to prevent harmful interference between amateur stations and stations of other services operating in accordance with Nos. 5.98 and 5.99.

5.101 Alternative allocation: in Burundi and Lesotho, the band 1810-1850 kHz is allocated to the fixed and mobile, except aeronautical mobile, services on a primary basis.

5.102 Alternative allocation: in Argentina, Bolivia, Chile, Mexico, Paraguay, Peru, Uruguay and Venezuela, the band 1850-2000 kHz is allocated to the fixed, mobile except aeronautical mobile, radiolocation and radionavigation services on a primary basis.

5.103 In Region 1, in making assignments to stations in the fixed and mobile services in the bands 1850-2045 kHz, 2194-2498 kHz, 2502-2625 kHz and 2650-2850 kHz, administrations should bear in mind the special requirements of the maritime mobile service.

5.104 In Region 1, the use of the band 2025-2045 kHz by the meteorological aids service is limited to oceanographic buoy stations.

5.105 In Region 2, except in Greenland, coast stations and ship stations using radiotelephony in the band 2065-2107 kHz shall be limited to class J3E emissions and to a peak envelope power not exceeding 1 kW. Preferably, the following carrier frequencies should be used: 2065.0 kHz, 2079.0 kHz, 2082.5 kHz, 2086.0 kHz, 2093.0 kHz, 2096.5 kHz, 2100.0 kHz and 2103.5 kHz. In Argentina and Uruguay, the carrier frequencies 2068.5 kHz and 2075.5 kHz are also used for this purpose, while the frequencies within the band 2072-2075.5 kHz are used as provided in No. 52.165.

5.106 In Regions 2 and 3, provided no harmful interference is caused to the maritime mobile service, the frequencies between 2065 kHz and 2107 kHz may be used by stations of the fixed service communicating only within national borders and whose mean power does not exceed 50 W. In notifying the frequencies, the attention of the Bureau should be drawn to these provisions.

5.107 Additional allocation: in Saudi Arabia, Botswana, Eritrea, Ethiopia, Iraq, Lesotho, Libya, Somalia and Swaziland, the band 2160-2170 kHz is also allocated to the fixed and mobile, except aeronautical mobile (R), services on a primary basis. The mean power of stations in these services shall not exceed 50 W.

5.108 The carrier frequency 2182 kHz is an international distress and calling frequency for radiotelephony. The conditions for the use of the band 2173.5-2190.5 kHz are prescribed in Articles 31 and 52 and in Appendix 13.

5.109 The frequencies 2187.5 kHz, 4207.5 kHz, 6312 kHz, 8414.5 kHz, 12577 kHz and 16804.5 kHz are international distress frequencies for digital selective calling. The conditions for the use of these frequencies are prescribed in Article 31.

5.110 The frequencies 2174.5 kHz, 4177.5 kHz, 6268 kHz, 8376.5 kHz, 12520 kHz and 16695 kHz are international distress frequencies for narrow-band direct-printing telegraphy. The conditions for the use of these frequencies are prescribed in Article 31.

5.111 The carrier frequencies 2182 kHz, 3023 kHz, 5680 kHz, 8364 kHz and the frequencies 121.5 MHz, 156.8 MHz and 243 MHz may also be used, in accordance with the procedures in force for terrestrial radiocommunication services, for search and rescue operations concerning manned space vehicles. The conditions for the use of the frequencies are prescribed in Article 31 and in Appendix 13.

The same applies to the frequencies 10003 kHz, 14993 kHz and 19993 kHz, but in each of these cases emissions must be confined in a band of ± 3 kHz about the frequency.

5.112 Alternative allocation: in Bosnia and Herzegovina, Cyprus, Denmark, Greece, Iceland, Malta, Sri Lanka and Yugoslavia, the band 2194-2300 kHz is allocated to the fixed and mobile, except aeronautical mobile, services on a primary basis.

5.113 For the conditions for the use of the bands 2300-2495 kHz (2498 kHz in Region 1), 3200-3400 kHz, 4750-4995 kHz and 5005-5060 kHz by the broadcasting service, see Nos. 5.16 to 5.20, 5.21 and 23.3 to 23.10.

5.114 Alternative allocation: in Bosnia and Herzegovina, Cyprus, Denmark, Greece, Iraq, Malta, and Yugoslavia, the band 2502-2625 kHz is allocated to the fixed and mobile, except aeronautical mobile, services on a primary basis.

5.115 The carrier (reference) frequencies 3023 kHz and 5680 kHz may also be used, in accordance with Article 31 and Appendix 13 by stations of the maritime mobile service engaged in coordinated search and rescue operations.

5.116 Administrations are urged to authorize the use of the band 3155-3195 kHz to provide a common worldwide channel for low power wireless hearing aids. Additional channels for these devices may be assigned by administrations in the bands between 3155 kHz and 3400 kHz to suit local needs.

It should be noted that frequencies in the range 3000 kHz to 4000 kHz are suitable for hearing aid devices which are designed to operate over short distances within the induction field.

5.117 Alternative allocation: in Bosnia and Herzegovina, Cyprus, Côte d'Ivoire, Denmark, Egypt, Greece, Iceland, Liberia, Malta, Sri Lanka, Togo and Yugoslavia, the band 3155-3200 kHz is allocated to the fixed and mobile, except aeronautical mobile, services on a primary basis.

5.118 Additional allocation: in the United States, Japan, Mexico, Peru and Uruguay, the band 3230-3400 kHz is also allocated to the radiolocation service on a secondary basis.

5.119 Additional allocation: in Honduras, Mexico, Peru and Venezuela, the band 3500-3750 kHz is also allocated to the fixed and mobile services on a primary basis.

5.120 For the use of the bands allocated to the amateur service at 3.5 MHz, 7.0 MHz, 10.1 MHz, 14.0 MHz, 18.068 MHz, 21.0 MHz, 24.89 MHz and 144 MHz in the event of natural disasters, see Resolution 640.¹(SUP-WRC-2000)

¹ This Resolution was abrogated by WRC-97.

5.122 Alternative allocation: in Argentina, Bolivia, Chile, Ecuador, Paraguay, Peru and Uruguay, the band 3750-4000 kHz is allocated to the fixed and mobile, except aeronautical mobile, services on a primary basis.

5.123 Additional allocation: in Botswana, Lesotho, Malawi, Mozambique, Namibia, South Africa, Swaziland, Zambia and Zimbabwe, the band 3900-3950 kHz is also allocated to the broadcasting service on a primary basis, subject to agreement obtained under No. 9.21.

5.125 Additional allocation: in Greenland, the band 3950-4000 kHz is also allocated to the broadcasting service on a primary basis. The power of the broadcasting stations operating in this band shall not exceed that necessary for a national service and shall in no case exceed 5 kW.

5.126 In Region 3, the stations of those services to which the band 3995-4005 kHz is allocated may transmit standard frequency and time signals.

5.127 The use of the band 4000-4063 kHz by the maritime mobile service is limited to ship stations using radiotelephony (see No. 52.220 and Appendix 17).

5.128 In Afghanistan, Argentina, Armenia, Azerbaijan, Belarus, Botswana, Burkina Faso, the Central African Rep., China, Georgia, India, Kazakstan, Mali, Niger, Kyrgyzstan, Russian Federation, Tajikistan, Chad, Turkmenistan and Ukraine, in the bands 4063-4123 kHz, 4130-4133 kHz and 4408-4438 kHz, stations of limited power in the fixed service which are situated at least 600 km from the coast may operate on condition that harmful interference is not caused to the maritime mobile service.

5.129 On condition that harmful interference is not caused to the maritime mobile service, the frequencies in the bands 4063-4123 kHz and 4130-4438 kHz may be used exceptionally by stations in the fixed service communicating only within the boundary of the country in which they are located with a mean power not exceeding 50 W.

5.130 The conditions for the use of the carrier frequencies 4125 kHz and 6215 kHz are prescribed in Articles 31 and 52 and in Appendix 13.

5.131 The frequency 4209.5 kHz is used exclusively for the transmission by coast stations of meteorological and navigational warnings and urgent information to ships by means of narrow-band direct-printing techniques.

5.132 The frequencies 4210 kHz, 6314 kHz, 8416.5 kHz, 12579 kHz, 16806.5 kHz, 19680.5 kHz, 22376 kHz and 26100.5 kHz are the international frequencies for the transmission of maritime safety information (MSI) (see Appendix 17).

5.133 Different category of service: in Armenia, Azerbaijan, Belarus, Georgia, Kazakstan, Latvia, Lithuania, Moldova, Uzbekistan, Kyrgyzstan, Russian Federation, Tajikistan, Turkmenistan and Ukraine, the allocation of the band 5130-5250 kHz to the mobile, except aeronautical mobile, service is on a primary basis (see No. 5.33).

5.134 The use of the bands 5900-5950 kHz, 7300-7350 kHz, 9400-9500 kHz, 11600-11650 kHz, 12050-12100 kHz, 13570-13600 kHz, 13800-13870 kHz, 15600-15800 kHz, 17480-17550 kHz and 18900-19020 kHz by the broadcasting service is limited to single-sideband emissions with the characteristics specified in Appendix 11 or to any other spectrum-efficient modulation techniques recommended by ITU-R. Access to these bands shall be subject to the decisions of a competent conference.

5.136 The band 5900-5950 kHz is allocated, until 1 April 2007, to the fixed service on a primary basis, as well as to the following services: in Region 1 to the land mobile service on a primary basis, in Region 2 to the mobile except aeronautical mobile (R) service on a primary basis, and in Region 3 to the mobile except aeronautical mobile (R) service on a secondary basis, subject to application of the procedure referred to in Resolution 21 (Rev.WRC-95). After 1 April 2007, frequencies in this band may be used by stations in the above-mentioned services, communicating only within the boundary of the country in which they are located, on the condition that harmful interference is not caused to the broadcasting service. When using frequencies for these services, administrations are urged to use the minimum power required and to take account of the seasonal use of frequencies by the broadcasting service published in accordance with the Radio Regulations.

5.137 On condition that harmful interference is not caused to the maritime mobile service, the bands 6200-6213.5 kHz and 6220.5-6525 kHz may be used exceptionally by stations in the fixed service, communicating only within the boundary of the country in which they are located, with a mean power not exceeding 50 W. At the time of notification of these frequencies, the attention of the Bureau will be drawn to the above conditions.

5.138 The following bands:

6765-6795 kHz (centre frequency 6780 kHz),

433.05-434.79 MHz (centre frequency 433.92 MHz) in Region 1 except in the countries mentioned in No. 5.280,

61-61.5 GHz (centre frequency 61.25 GHz),

122-123 GHz (centre frequency 122.5 GHz), and

244-246 GHz (centre frequency 245 GHz)

are designated for industrial, scientific and medical (ISM) applications. The use of these frequency bands for ISM applications shall be subject to special authorization by the administration concerned, in agreement with other administrations whose radiocommunication services might be affected. In applying this provision, administrations shall have due regard to the latest relevant ITU-R Recommendations.

5.139 Different category of service: in Armenia, Azerbaijan, Belarus, Georgia, Kazakstan, Latvia, Lithuania, Moldova, Mongolia, Uzbekistan, Kyrgyzstan, Russian Federation, Tajikistan, Turkmenistan and Ukraine, the allocation of the band 6765-7000 kHz to the land mobile service is on a primary basis (see No. 5.33).

5.140 Additional allocation: in Angola, Iraq, Rwanda, Somalia and Togo, the band 7000-7050 kHz is also allocated to the fixed service on a primary basis.

5.141 Alternative allocation: in Egypt, Eritrea, Ethiopia, Guinea, Libya and Madagascar, the band 7000-7050 kHz is allocated to the fixed service on a primary basis.

5.142 The use of the band 7100-7300 kHz in Region 2 by the amateur service shall not impose constraints on the broadcasting service intended for use within Region 1 and Region 3.

5.143 The band 7300-7350 kHz is allocated, until 1 April 2007, to the fixed service on a primary basis and to the land mobile service on a secondary basis, subject to application of the procedure referred to in Resolution 21 (Rev.WRC-95). After 1 April 2007, frequencies in this band may be used by stations in the above-mentioned services, communicating only within the boundary of the country in which they are located, on condition that harmful interference is not caused to the broadcasting service. When using frequencies for these services, administrations are urged to use the minimum power required and to take account of the seasonal use of frequencies by the broadcasting service published in accordance with the Radio Regulations.

5.144 In Region 3, the stations of those services to which the band 7995-8005 kHz is allocated may transmit standard frequency and time signals.

5.145 The conditions for the use of the carrier frequencies 8291 kHz, 12290 kHz and 16420 kHz are prescribed in Articles 31 and 52 and in Appendix 13.

5.146 The bands 9400-9500 kHz, 11600-11650 kHz, 12050-12100 kHz, 15600-15800 kHz, 17480-17550 kHz and 18900-19020 kHz are allocated to the fixed service on a primary basis until 1 April 2007, subject to application of the procedure referred to in Resolution 21 (Rev.WRC-95). After 1 April 2007, frequencies in these bands may be used by stations in the fixed service, communicating only within the boundary of the country in which they are located, on condition that harmful interference is not caused to the broadcasting service. When using frequencies in the fixed service, administrations are urged to use the minimum power required and to take account of the seasonal use of frequencies by the broadcasting service published in accordance with the Radio Regulations.

5.147 On condition that harmful interference is not caused to the broadcasting service, frequencies in the bands 9775-9900 kHz, 11650-11700 kHz and 11975-12050 kHz may be used by stations in the fixed service communicating only within the boundary of the country in which they are located, each station using a total radiated power not exceeding 24 dBW.

5.148 The bands 9775-9900 kHz, 11650-11700 kHz, 11975-12050 kHz, 13600-13800 kHz, 15450-15600 kHz, 17550-17700 kHz and 21750-21850 kHz are allocated to the fixed service on a primary basis subject to the procedure described in Resolution 8. The use of these bands by the broadcasting service shall be subject to provisions to be established by the world administrative radio conference for the planning of HF bands allocated to the broadcasting service (see Resolution 508). Within these bands, the date of commencement of operations in the broadcasting servive on a planned channel shall not be earlier than the date of completion of satisfactory transfer, according to the procedures described in Resolution 8, of all assignments to stations in the fixed service operating in accordance with the Table and other provisions of the Radio Regulations, which are recorded in the Master Register and which may be affected by boadcating operations on that channel. (SUP—WRC-97)

5.149 In making assignments to stations of other services to which the bands:

13360-13410 kHz, | 4990-5000 MHz, | 94.1-100 GHz,
25550-25670 kHz, | 6650-6675.2 MHz, | 102-109.5 GHz,
37.5-38.25 MHz, | 10.6-10.68 GHz, | 111.8-114.25 GHz,
73-74.6 MHz in Regions 1 and 3, | 14.47-14.5 GHz, | 128.33-128.59 GHz,
150.05-153 MHz in Region 1, | 22.01-22.21 GHz, | 129.23-129.49 GHz,
322-328.6 MHz, | 22.21-22.5 GHz, | 130-134 GHz,
406.1-410 MHz, | 22.81-22.86 GHz, | 136-148.5 GHz,
608-614 MHz in Regions 1 and 3, | 23.07-23.12 GHz, | 151.5-158.5 GHz,
1330-1400 MHz, | 31.2-31.3 GHz, | 168.59-168.93 GHz,
1610.6-1613.8 MHz, | 31.5-31.8 GHz in Regions 1 and 3, | 171.11-171.45 GHz,
1660-1670 MHz, | 36.43-36.5 GHz, | 172.31-172.65 GHz,
1718.8-1722.2 MHz, | 42.5-43.5 GHz, | 173.52-173.85 GHz,
2655-2690 MHz, | 42.77-42.87 GHz, | 195.75-196.15 GHz,
3260-3267 MHz, | 43.07-43.17 GHz, | 209-226 GHz,
3332-3339 MHz, | 43.37-43.47 GHz, | 241-250 GHz,
3345.8-3352.5 MHz, | 48.94-49.04 GHz, | 252-275 GHz
4825-4835 MHz, | 76-86 GHz,
4950-4990 MHz, | 92-94 GHz,

are allocated, administrations are urged to take all practicable steps to protect the radio astronomy service from harmful interference. Emissions from spaceborne or airborne stations can be particularly serious sources of interference to the radio astronomy service (see Nos. 4.5 and 4.6 and Article 29).

5.150 The following bands:

13553-13567 kHz (centre frequency 13560 kHz),

26957-27283 kHz (centre frequency 27120 kHz),

40.66-40.70 MHz (centre frequency 40.68 MHz),

902-928 MHz in Region 2 (centre frequency 915 MHz),

2400-2500 MHz (centre frequency 2450 MHz),

5725-5875 MHz (centre frequency 5800 MHz), and

24-24.25 GHz (centre frequency 24.125 GHz)

are also designated for industrial, scientific and medical (ISM) applications. Radiocommunication services operating within these bands must accept harmful interference which may be caused by these applications. ISM equipment operating in these bands is subject to the provisions of No. 15.13.

5.151 The bands 13570-13600 kHz and 13800-13870 kHz are allocated, until 1 April 2007, to the fixed service on a primary basis and to the mobile except aeronautical mobile (R) service on a secondary basis, subject to application of the procedure referred to in Resolution 21 (Rev.WRC-95). After 1 April 2007, frequencies in these bands may be used by stations in the above-mentioned services, communicating only within the boundary of the country in which they are located, on the condition that harmful interference is not caused to the broadcasting service. When using frequencies in these services, administrations are urged to use the minimum power required and to take account of the seasonal use of frequencies by the broadcasting service published in accordance with the Radio Regulations.

5.152 Additional allocation: in Armenia, Azerbaijan, China, Côte d'Ivoire, Georgia, Iran (Islamic Republic of), Kazakstan, Moldova, Kyrgyzstan, the Russian Federation, Tajikistan, Turkmenistan and Ukraine, the band 14250-14350 kHz is also allocated to the fixed service on a primary basis. Stations of the fixed service shall not use a radiated power exceeding 24 dBW.

5.153 In Region 3, the stations of those services to which the band 15995-16005 kHz is allocated may transmit standard frequency and time signals.

5.154 Additional allocation: in Armenia, Azerbaijan, Georgia, Kazakstan, Moldova, Kyrgyzstan, the Russian Federation, Tajikistan, Turkmenistan and Ukraine, the band 18068-18168 kHz is also allocated to the fixed service on a primary basis for use within their boundaries, with a peak envelope power not exceeding 1 kW.

5.155 Additional allocation: in Armenia, Azerbaijan, Belarus, Bulgaria, Georgia, Hungary, Kazakstan, Moldova, Mongolia, Uzbekistan, Kyrgyzstan, Slovakia, the Czech Rep., Russian Federation, Tajikistan, Turkmenistan and Ukraine, the band 21850-21870 kHz is also allocated to the aeronautical mobile (R) services on a primary basis.

5.155A In Armenia, Azerbaijan, Belarus, Bulgaria, Georgia, Kazakstan, Moldova, Mongolia, Uzbekistan, Kyrgyzstan, Slovakia, the Czech Rep., the Russian Federation, Tajikistan, Turkmenistan and Ukraine, the use of the band 21850-21870 kHz by the fixed service is limited to provision of services related to aircraft flight safety.

5.155B The band 21870-21924 kHz is used by the fixed service for provision of services related to aircraft flight safety.

5.156 Additional allocation: in Nigeria, the band 22720-23200 kHz is also allocated to the meteorological aids service (radiosondes) on a primary basis.

5.156A The use of the band 23200-23350 kHz by the fixed service is limited to provision of services related to aircraft flight safety.

5.157 The use of the band 23350-24000 kHz by the maritime mobile service is limited to inter-ship radiotelegraphy.

5.160 Additional allocation: in Botswana, Burundi, Lesotho, Malawi, Dem. Rep. of the Congo, Rwanda and Swaziland, the band 41-44 MHz is also allocated to the aeronautical radionavigation service on a primary basis.

5.161 Additional allocation: in Iran (Islamic Republic of) and Japan, the band 41-44 MHz is also allocated to the radiolocation service on a secondary basis.

5.162 Additional allocation: in Australia and New Zealand, the band 44-47 MHz is also allocated to the broadcasting service on a primary basis.

5.162A Additional allocation: in Germany, Austria, Belgium, Bosnia and Herzegovina, China, Vatican, Denmark, Spain, Estonia, Finland, France, Ireland, Iceland, Italy, Latvia, The Former Yugoslav Republic of Macedonia, Liechtenstein, Lithuania, Luxembourg, Moldova, Monaco, Norway, the Netherlands, Poland, Portugal, Slovakia, the Czech Rep., the United Kingdom, the Russian Federation, Sweden and Switzerland the band 46-68 MHz is also allocated to the radiolocation service on a secondary basis. This use is limited to the operation of wind profiler radars in accordance with Resolution 217 (WRC-97).

5.163 Additional allocation: in Armenia, Azerbaijan, Belarus, Estonia, Georgia, Hungary, Kazakstan, Latvia, Lithuania, Moldova, Mongolia, Uzbekistan, Kyrgyzstan, Slovakia, the Czech Rep., Russian Federation, Tajikistan, Turkmenistan and Ukraine, the bands 47-48.5 MHz and 56.5-58 MHz are also allocated to the fixed and land mobile services on a secondary basis.

5.164 Additional allocation: in Albania, Germany, Austria, Belgium, Bosnia and Herzegovina, Bulgaria, C“te d'Ivoire, Denmark, Spain, Finland, France, Gabon, Greece, Ireland, Israel, Italy, Jordan, Lebanon, Libya, Liechtenstein, Luxembourg, Madagascar, Mali, Malta, Morocco, Mauritania, Monaco, Nigeria, Norway, the Netherlands, Poland, Syria, the United Kingdom, Senegal, Slovenia, Sweden, Switzerland, Swaziland, Togo, Tunisia, Turkey and Yugoslavia the band 47-68 MHz, in Romania the band 47-58 MHz and in the Czech Rep. the band 66-68 MHz, are also allocated to the land mobile service on a primary basis. However, stations of the land mobile service in the countries mentioned in connection with each band referred to in this footnote shall not cause harmful interference to, or claim protection from, existing or planned broadcasting stations of countries other than those mentioned in connection with the band.

5.165 Additional allocation: in Angola, Cameroon, the Congo, Madagascar, Mozambique, Somalia, Sudan, Tanzania and Chad, the band 47-68 MHz is also allocated to the fixed and mobile, except aeronautical mobile, services on a primary basis.

5.166 Alternative allocation: in New Zealand, the band 50-51 MHz is allocated to the fixed, mobile and broadcasting services on a primary basis; the band 53-54 MHz is allocated to the fixed and mobile services on a primary basis.

5.167 Alternative allocation: in Bangladesh, Brunei Darussalam, India, Indonesia, Iran (Islamic Republic of), Malaysia, Pakistan, Singapore and Thailand, the band 50-54 MHz is allocated to the fixed, mobile and broadcasting services on a primary basis.

5.168 Additional allocation: in Australia, China and the Dem. People's Rep. of Korea, the band 50-54 MHz is also allocated to the broadcasting service on a primary basis.

5.169 Alternative allocation: in Botswana, Burundi, Lesotho, Malawi, Namibia, Dem. Rep. of the Congo, Rwanda, South Africa, Swaziland, Zambia and Zimbabwe, the band 50-54 MHz is allocated to the amateur service on a primary basis.

5.170 Additional allocation: in New Zealand, the band 51-53 MHz is also allocated to the fixed and mobile services on a primary basis.

5.171 Additional allocation: in Botswana, Burundi, Lesotho, Malawi, Mali, Namibia, Dem. Rep. of the Congo, Rwanda, South Africa, Swaziland and Zimbabwe, the band 54-68 MHz is also allocated to the fixed and mobile, except aeronautical mobile, services on a primary basis.

5.172 Different category of service: in the French Overseas Departments in Region 2, Guyana, Jamaica and Mexico, the allocation of the band 54-68 MHz to the fixed and mobile services is on a primary basis (see No. 5.33).

5.173 Different category of service: in the French Overseas Departments in Region 2, Guyana, Jamaica and Mexico, the allocation of the band 68-72 MHz to the fixed and mobile services is on a primary basis (see No. 5.33).

5.174 Alternative allocation: in Bulgaria, Hungary, Poland and Romania, the band 68-73 MHz is allocated to the broadcasting service on a primary basis and used in accordance with the decisions in the Final Acts of the Special Regional Conference (Geneva, 1960).

5.175 Alternative allocation: in Armenia, Azerbaijan, Belarus, Georgia, Kazakstan, Latvia, Lithuania, Moldova, Mongolia, Uzbekistan, Kyrgyzstan, the Russian Federation, Tajikistan, Turkmenistan and Ukraine, the bands 68-73 MHz and 76-87.5 MHz are allocated to the broadcasting service on a primary basis. The services to which these bands are allocated in other countries and the broadcasting service in the countries listed above are subject to agreements with the neighbouring countries concerned.

5.176 Additional allocation: in Australia, China, Korea (Rep. of), Estonia (subject to agreement obtained under No. 9.21), the Philippines, the Dem. People's Rep. of Korea and Samoa, the band 68-74 MHz is also allocated to the broadcasting service on a primary basis.

5.177 Additional allocation: in Armenia, Azerbaijan, Belarus, Bulgaria, Georgia, Kazakstan, Latvia, Moldova, Uzbekistan, Poland, Kyrgyzstan, the Russian Federation, Tajikistan, Turkmenistan and Ukraine, the band 73-74 MHz is also allocated to the broadcasting service on a primary basis, subject to agreement obtained under No. 9.21.

5.178 Additional allocation: in Colombia, Costa Rica, Cuba, El Salvador, Guatemala, Guyana, Honduras and Nicaragua, the band 73-74.6 MHz is also allocated to the fixed and mobile services on a secondary basis.

5.179 Additional allocation: in Armenia, Azerbaijan, Belarus, Bulgaria, China, Georgia, Kazakstan, Latvia, Lithuania, Moldova, Mongolia, Kyrgyzstan, Slovakia, the Czech Rep., Russian Federation, Tajikistan, Turkmenistan and Ukraine, the bands 74.6-74.8 MHz and 75.2-75.4 MHz are also allocated to the aeronautical radionavigation service, on a primary basis, for ground-based transmitters only.

5.180 The frequency 75 MHz is assigned to marker beacons. Administrations shall refrain from assigning frequencies close to the limits of the guardband to stations of other services which, because of their power or geographical position, might cause harmful interference or otherwise place a constraint on marker beacons.

Every effort should be made to improve further the characteristics of airborne receivers and to limit the power of transmitting stations close to the limits 74.8 MHz and 75.2 MHz.

5.181 Additional allocation: in Egypt, Israel, Japan, and Syria, the band 74.8-75.2 MHz is also allocated to the mobile service on a secondary basis, subject to agreement obtained under No. 9.21. In order to ensure that harmful interference is not caused to stations of the aeronautical radionavigation service, stations of the mobile service shall not be introduced in the band until it is no longer required for the aeronautical radionavigation service by any administration which may be identified in the application of the procedure invoked under No. 9.21.

5.182 Additional allocation: in Western Samoa, the band 75.4-87 MHz is also allocated to the broadcasting service on a primary basis.

5.183 Additional allocation: in China, Korea (Rep. of), Japan, the Philippines and the Dem. People's Rep. of Korea, the band 76-87 MHz is also allocated to the broadcasting service on a primary basis.

5.184 Additional allocation: in Bulgaria and Romania, the band 76-87.5 MHz is also allocated to the broadcasting service on a primary basis and used in accordance with the decisions contained in the Final Acts of the Special Regional Conference (Geneva, 1960).

5.185 Different category of service: in the United States, the French Overseas Departments in Region 2, Guyana, Jamaica, Mexico and Paraguay, the allocation of the band 76-88 MHz to the fixed and mobile services is on a primary basis (see No. 5.33).

5.187 Alternative allocation: in Albania, the band 81-87.5 MHz is allocated to the broadcasting service on a primary basis and used in accordance with the decisions contained in the Final Acts of the Special Regional Conference (Geneva, 1960).

5.188 Additional allocation: in Australia, the band 85-87 MHz is also allocated to the broadcasting service on a primary basis. The introduction of the broadcasting service in Australia is subject to special agreements between the administrations concerned.

5.190 Additional allocation: in Monaco, the band 87.5-88 MHz is also allocated to the land mobile service on a primary basis, subject to agreement obtained under No. 9.21.

5.192 Additional allocation: in China and Korea (Rep. of), the band 100-108 MHz is also allocated to the fixed and mobile services on a primary basis.

5.194 Additional allocation: in Azerbaijan, Lebanon, Syria, Kyrgyzstan, Somalia and Turkmenistan, the band 104-108 MHz is also allocated to the mobile, except aeronautical mobile (R), service on a secondary basis.

5.197 Additional allocation: in Japan, Pakistan and Syria, the band 108-111.975 MHz is also allocated to the mobile service on a secondary basis, subject to agreement obtained under No. 9.21. In order to ensure that harmful interference is not caused to stations of the aeronautical radionavigation service, stations of the mobile service shall not be introduced in the band until it is no longer required for the aeronautical radionavigation service by any administration which may be identified in the application of the procedures invoked under No. 9.21.

5.198 Additional allocation: the band 117.975-136 MHz is also allocated to the aeronautical mobile-satellite (R) service on a secondary basis, subject to agreement obtained under No. 9.21.

5.199 The bands 121.45-121.55 MHz and 242.95-243.05 MHz are also allocated to the mobile-satellite service for the reception on board satellites of emissions from emergency position-indicating radiobeacons transmitting at 121.5 MHz and 243 MHz (see Appendix 13).

5.200 In the band 117.975-136 MHz, the frequency 121.5 MHz is the aeronautical emergency frequency and, where required, the frequency 123.1 MHz is the aeronautical frequency auxiliary to 121.5 MHz. Mobile stations of the maritime mobile service may communicate on these frequencies under the conditions laid down in Article 31 and Appendix 13 for distress and safety purposes with stations of the aeronautical mobile service.

5.201 Additional allocation: in Angola, Armenia, Azerbaijan, Belarus, Bulgaria, Estonia, Georgia, Hungary, Iran (Islamic Republic of), Iraq, Japan, Kazakstan, Latvia, Moldova, Mongolia, Mozambique, Uzbekistan, Papua New Guinea, Poland, Kyrgyzstan, Slovakia, the Czech Rep., Romania, Russian Federation, Tajikistan, Turkmenistan and Ukraine, the band 132-136 MHz is also allocated to the aeronautical mobile (OR) service on a primary basis. In assigning frequencies to stations of the aeronautical mobile (OR) service, the administration shall take account of the frequencies assigned to stations in the aeronautical mobile (R) service.

5.202 Additional allocation: in Saudi Arabia, Armenia, Azerbaijan, Belarus, Bulgaria, the United Arab Emirates, Georgia, Iran (Islamic Republic of), Jordan, Latvia, Moldova, Oman, Uzbekistan, Poland, Syria, Kyrgyzstan, Slovakia, the Czech Rep., Romania, the Russian Federation, Tajikistan, Turkmenistan and Ukraine, the band 136-137 MHz is also allocated to the aeronautical mobile (OR) service on a primary basis. In assigning frequencies to stations of the aeronautical mobile (OR) service, the administration shall take account of the frequencies assigned to stations in the aeronautical mobile (R) service.

5.203 In the band 136-137 MHz, existing operational meteorological satellites may continue to operate, under the conditions defined in No. 4.4 with respect to the aeronautical mobile service, until 1 January 2002. Administrations shall not authorize new frequency assignments in this band to stations in the meteorological-satellite service.

5.203A Additional allocation: in Israel, Mauritania, Qatar and Zimbabwe, the band 136-137 MHz is also allocated to the fixed and mobile, except aeronautical mobile (R), services on a secondary basis until 1 January 2005.

5.203B Additional allocation: in Saudi Arabia, United Arab Emirates, Jordan, Oman and Syria, the band 136-137 MHz is also allocated to the fixed and mobile, except aeronautical mobile, services on a secondary basis until 1 January 2005.

5.204 Different category of service: in Afghanistan, Saudi Arabia, Bahrain, Bangladesh, Bosnia and Herzegovina, Brunei Darussalam, China, Cuba, the United Arab Emirates, India, Indonesia, Iran (Islamic Republic of), Iraq, Malaysia, Oman, Pakistan, Philippines, Qatar, Singapore, Sri Lanka, Thailand, Yemen and Yugoslavia, the band 137-138 MHz is allocated to the fixed and mobile, except aeronautical mobile (R), services on a primary basis (see No. 5.33).

5.205 Different category of service: in Israel and Jordan, the allocation of the band 137-138 MHz to the fixed and mobile, except aeronautical mobile, services is on a primary basis (see No. 5.33).

5.206 Different category of service: in Armenia, Azerbaijan, Belarus, Bulgaria, Egypt, Finland, France, Georgia, Greece, Kazakstan, Lebanon, Moldova, Mongolia, Uzbekistan, Poland, Kyrgyzstan, Syria, Slovakia, the Czech Rep., Romania, the Russian Federation, Tajikistan, Turkmenistan and Ukraine, the allocation of the band 137-138 MHz to the aeronautical mobile (OR) service is on a primary basis (see No. 5.33).

5.207 Additional allocation: in Australia, the band 137-144 MHz is also allocated to the broadcasting service on a primary basis until that service can be accommodated within regional broadcasting allocations.

5.208 The use of the band 137-138 MHz by the mobile-satellite service is subject to coordination under No. 9.11A.

5.208A In making assignments to space stations in the mobile-satellite service in the bands 137-138 MHz, 387-390 MHz and 400.15-401 MHz, administrations shall take all practicable steps to protect the radio astronomy service in the bands 150.05-153 MHz, 322-328.6 MHz, 406.1-410 MHz and 608-614 MHz from harmful interference from unwanted emissions. The threshold levels of interference detrimental to the radio astronomy service are shown in Table 1 of Recommendation ITU-R RA.769-1.

5.209 The use of the bands 137-138 MHz, 148-150.05 MHz, 399.9-400.05 MHz, 400.15-401 MHz, 454-456 MHz and 459-460 MHz by the mobile-satellite service is limited to non-geostationary-satellite systems.

5.210 Additional allocation: in France, Italy, Liechtenstein, Slovakia, the Czech Rep., the United Kingdom and Switzerland, the bands 138-143.6 MHz and 143.65-144 MHz are also allocated to the space research service (space-to-Earth) on a secondary basis.

5.211 Additional allocation: in Germany, Saudi Arabia, Austria, Bahrain, Belgium, Bosnia and Herzegovina, Denmark, the United Arab Emirates, Spain, Finland, Greece, Ireland, Israel, Kenya, Kuwait, The Former Yugoslav Republic of Macedonia, Liechtenstein, Luxembourg, Mali, Malta, Norway, the Netherlands, Qatar, the United Kingdom, Somalia, Sweden, Switzerland, Tanzania, Tunisia, Turkey and Yugoslavia, the band 138-144 MHz is also allocated to the maritime mobile and land mobile services on a primary basis.

5.212 Alternative allocation: in Angola, Botswana, Burundi, Cameroon, the Central African Rep., the Congo, Gabon, Gambia, Ghana, Guinea, Iraq, Jordan, Lesotho, Liberia, Libya, Malawi, Mozambique, Namibia, Nigeria, Oman, Dem. Rep. of the Congo, Rwanda, Sierra Leone, South Africa, Swaziland, Chad, Togo, Zambia and Zimbabwe, the band 138-144 MHz is allocated to the fixed and mobile services on a primary basis.

5.213 Additional allocation: in China, the band 138-144 MHz is also allocated to the radiolocation service on a primary basis.

5.214 Additional allocation: in Bosnia and Herzegovina, Croatia, Eritrea, Ethiopia, Kenya, The Former Yugoslav Republic of Macedonia, Malta, Somalia, Sudan, Tanzania and Yugoslavia, the band 138-144 MHz is also allocated to the fixed service on a primary basis.

5.216 Additional allocation: in China, the band 144-146 MHz is also allocated to the aeronautical mobile (OR) service on a secondary basis.

5.217 Alternative allocation: in Afghanistan, Bangladesh, Cuba, Guyana and India, the band 146-148 MHz is allocated to the fixed and mobile services on a primary basis.

5.218 Additional allocation: the band 148-149.9 MHz is also allocated to the space operation service (Earth-to-space) on a primary basis, subject to agreement obtained under No. 9.21. The bandwidth of any individual transmission shall not exceed ± 25 kHz.

5.219 The use of the band 148-149.9 MHz by the mobile-satellite service is subject to coordination under No. 9.11A. The mobile-satellite service shall not constrain the development and use of the fixed, mobile and space operation services in the band 148-149.9 MHz.

5.220 The use of the bands 149.9-150.05 MHz and 399.9-400.05 MHz by the mobile-satellite service is subject to coordination under No. 9.11A. The mobile-satellite service shall not constrain the development and use of the radionavigation-satellite service in the bands 149.9-150.05 MHz and 399.9-400.05 MHz.

5.221 Stations of the mobile-satellite service in the band 148-149.9 MHz shall not cause harmful interference to, or claim protection from, stations of the fixed or mobile services operating in accordance with the Table of Frequency Allocations in the following countries: Albania, Algeria, Germany, Saudi Arabia, Australia, Austria, Bahrain, Bangladesh, Barbados, Belarus, Belgium, Benin, Bosnia and Herzegovina, Brunei Darussalam, Bulgaria, Cameroon, China, Cyprus, Congo, Korea (Rep. of), Croatia, Cuba, Denmark, Egypt, the United Arab Emirates, Eritrea, Spain, Estonia, Ethiopia, Finland, France, Gabon, Ghana, Greece, Guinea, Guinea Bissau, Hungary, India, Iran (Islamic Republic of), Ireland, Iceland, Israel, Italy, Jamaica, Japan, Jordan, Kazakstan, Kenya, Kuwait, Latvia, The Former Yugoslav Republic of Macedonia, Lebanon, Libya, Liechtenstein, Lithuania, Luxembourg, Malaysia, Mali, Malta, Mauritania, Moldova, Mongolia, Mozambique, Namibia, Norway, New Zealand, Oman, Uganda, Uzbekistan, Pakistan, Panama, Papua New Guinea, Paraguay, the Netherlands, the Philippines, Poland, Portugal, Qatar, Syria, Kyrgyzstan, Slovakia, Romania, the United Kingdom, the Russian Federation, Senegal, Sierra Leone, Singapore, Slovenia, Sri Lanka, South Africa, Sweden, Switzerland, Swaziland, Tanzania, Chad, Thailand, Togo, Tonga, Trinidad and Tobago, Tunisia, Turkey, Ukraine, Viet Nam, Yemen, Yugoslavia, Zambia, and Zimbabwe.

5.222 Emissions of the radionavigation-satellite service in the bands 149.9-150.05 MHz and 399.9-400.05 MHz may also be used by receiving earth stations of the space research service.

5.223 Recognizing that the use of the band 149.9-150.05 MHz by the fixed and mobile services may cause harmful interference to the radionavigation-satellite service, administrations are urged not to authorize such use in application of No. 4.4.

5.224A The use of the bands 149.9-150.05 MHz and 399.9-400.05 MHz by the mobile-satellite service (Earth-to-space) is limited to the land mobile-satellite service (Earth-to-space) until 1 January 2015.

5.224B The allocation of the bands 149.9-150.05 MHz and 399.9-400.05 MHz to the radionavigation-satellite service shall be effective until 1 January 2015.

5.225 Additional allocation: in Australia and India, the band 150.05-153 MHz is also allocated to the radio astronomy service on a primary basis.

5.226 The frequency 156.8 MHz is the international distress, safety and calling frequency for the maritime mobile VHF radiotelephone service. The conditions for the use of this frequency are contained in Article 31 and Appendix 13.

In the bands 156-156.7625 MHz, 156.8375-157.45 MHz, 160.6-160.975 MHz and 161.475-162.05 MHz, each administration shall give priority to the maritime mobile service on only such frequencies as are assigned to stations of the maritime mobile service by the administration (see Articles 31 and 52, and Appendix 13).

Any use of frequencies in these bands by stations of other services to which they are allocated should be avoided in areas where such use might cause harmful interference to the maritime mobile VHF radiocommunication service.

However, the frequency 156.8 MHz and the frequency bands in which priority is given to the maritime mobile service may be used for radiocommunications on inland waterways subject to agreement between interested and affected administrations and taking into account current frequency usage and existing agreements.

5.227 In the maritime mobile VHF service the frequency 156.525 MHz is to be used exclusively for digital selective calling for distress, safety and calling. The conditions for the use of this frequency are prescribed in Articles 31 and 52, and Appendices 13 and 18.

5.229 Alternative allocation: in Morocco, the band 162-174 MHz is allocated to the broadcasting service on a primary basis. The use of this band shall be subject to agreement with administrations having services, operating or planned, in accordance with the Table which are likely to be affected. Stations in existence on 1 January 1981, with their technical characteristics as of that date, are not affected by such agreement.

5.230 Additional allocation: in China, the band 163-167 MHz is also allocated to the space operation service (space-to-Earth) on a primary basis, subject to agreement obtained under No. 9.21.

5.231 Additional allocation: in Afghanistan, China and Pakistan, the band 167-174 MHz is also allocated to the broadcasting service on a primary basis. The introduction of the broadcasting service into this band shall be subject to agreement with the neighbouring countries in Region 3 whose services are likely to be affected.

5.232 Additional allocation: in Japan, the band 170-174 MHz is also allocated to the broadcasting service on a primary basis.

5.233 Additional allocation: in China, the band 174-184 MHz is also allocated to the space research (space-to-Earth) and the space operation (space-to-Earth) services on a primary basis, subject to agreement obtained under No. 9.21. These services shall not cause harmful interference to, or claim protection from, existing or planned broadcasting stations.

5.234 Different category of service: in Mexico, the allocation of the band 174-216 MHz to the fixed and mobile services is on a primary basis (see No. 5.33).

5.235 Additional allocation: in Germany, Austria, Belgium, Denmark, Spain, Finland, France, Israel, Italy, Liechtenstein, Malta, Monaco, Norway, the Netherlands, the United Kingdom, Sweden and Switzerland, the band 174-223 MHz is also allocated to the land mobile service on a primary basis. However, the stations of the land mobile service shall not cause harmful interference to, or claim protection from, broadcasting stations, existing or planned, in countries other than those listed in this footnote.

5.237 Additional allocation: in the Congo, Eritrea, Ethiopia, Gambia, Guinea, Libya, Malawi, Mali, Senegal, Sierra Leone, Somalia, Tanzania and Zimbabwe, the band 174-223 MHz is also allocated to the fixed and mobile services on a secondary basis.

5.238 Additional allocation: in Bangladesh, India, Pakistan and the Philippines, the band 200-216 MHz is also allocated to the aeronautical radionavigation service on a primary basis.

5.240 Additional allocation: in China and India, the band 216-223 MHz is also allocated to the aeronautical radionavigation service on a primary basis and to the radiolocation service on a secondary basis.

5.241 In Region 2, no new stations in the radiolocation service may be authorized in the band 216-225 MHz. Stations authorized prior to 1 January 1990 may continue to operate on a secondary basis.

5.242 Additional allocation: in Canada, the band 216-220 MHz is also allocated to the land mobile service on a primary basis.

5.243 Additional allocation: in Somalia, the band 216-225 MHz is also allocated to the aeronautical radionavigation service on a primary basis, subject to not causing harmful interference to existing or planned broadcasting services in other countries.

5.245 Additional allocation: in Japan, the band 222-223 MHz is also allocated to the aeronautical radionavigation service on a primary basis and to the radiolocation service on a secondary basis.

5.246 Alternative allocation: in Spain, France, Israel and Monaco, the band 223-230 MHz is allocated to the broadcasting and land mobile services on a primary basis (see No. 5.33) on the basis that, in the preparation of frequency plans, the broadcasting service shall have prior choice of frequencies; and allocated to the fixed and mobile, except land mobile, services on a secondary basis. However, the stations of the land mobile service shall not cause harmful interference to, or claim protection from, existing or planned broadcasting stations in Morocco and Algeria.

5.247 Additional allocation: in Saudi Arabia, Bahrain, the United Arab Emirates, Jordan, Oman, Qatar and Syria, the band 223-235 MHz is also allocated to the aeronautical radionavigation service on a primary basis.

5.250 Additional allocation: in China, the band 225-235 MHz is also allocated to the radio astronomy service on a secondary basis.

5.251 Additional allocation: in Nigeria, the band 230-235 MHz is also allocated to the aeronautical radionavigation service on a primary basis, subject to agreement obtained under No. 9.21.

5.252 Alternative allocation: in Botswana, Lesotho, Malawi, Mozambique, Namibia, South Africa, Swaziland, Zambia and Zimbabwe, the bands 230-238 MHz and 246-254 MHz are allocated to the broadcasting service on a primary basis, subject to agreement obtained under No. 9.21.

5.254 The bands 235-322 MHz and 335.4-399.9 MHz may be used by the mobile-satellite service, subject to agreement obtained under No. 9.21, on condition that stations in this service do not cause harmful interference to those of other services operating or planned to be operated in accordance with the Table of Frequency Allocations.

5.255 The bands 312-315 MHz (Earth-to-space) and 387-390 MHz (space-to-Earth) in the mobile-satellite service may also be used by non-geostationary-satellite systems. Such use is subject to coordination under No. 9.11A.

5.256 The frequency 243 MHz is the frequency in this band for use by survival craft stations and equipment used for survival purposes (see Appendix 13).

5.257 The band 267-272 MHz may be used by administrations for space telemetry in their countries on a primary basis, subject to agreement obtained under No. 9.21.

5.258 The use of the band 328.6-335.4 MHz by the aeronautical radionavigation service is limited to Instrument Landing Systems (glide path).

5.259 Additional allocation: in Egypt, Israel, Japan, and Syria, the band 328.6-335.4 MHz is also allocated to the mobile service on a secondary basis, subject to agreement obtained under No. 9.21. In order to ensure that harmful interference is not caused to stations of the aeronautical radionavigation service, stations of the mobile service shall not be introduced in the band until it is no longer required for the aeronautical radionavigation service by any administration which may be identified in the application of the procedure invoked under No. 9.21.

5.260 Recognizing that the use of the band 399.9-400.05 MHz by the fixed and mobile services may cause harmful interference to the radionavigation satellite service, administrations are urged not to authorize such use in application of No. 4.4.

5.261 Emissions shall be confined in a band of ±25 kHz about the standard frequency 400.1 MHz.

5.262 Additional allocation: in Saudi Arabia, Armenia, Azerbaijan, Bahrain, Belarus, Bosnia and Herzegovina, Bulgaria, Colombia, Costa Rica, Cuba, Egypt, the United Arab Emirates, Ecuador, Georgia, Hungary, Iran (Islamic Republic of), Iraq, Israel, Jordan, Kazakstan, Kuwait, Liberia, Malaysia, Moldova, Nigeria, Uzbekistan, Pakistan, the Philippines, Qatar, Syria, Kyrgyzstan, Slovakia, Romania, the Russian Federation, Singapore, Somalia, Tajikistan, Turkmenistan, Ukraine and Yugoslavia, the band 400.05-401 MHz is also allocated to the fixed and mobile services on a primary basis.

5.263 The band 400.15-401 MHz is also allocated to the space research service in the space-to-space direction for communications with manned space vehicles. In this application, the space research service will not be regarded as a safety service.

5.264 The use of the band 400.15-401 MHz by the mobile-satellite service is subject to coordination under No. 9.11A. The power flux-density limit indicated in Annex 1 of Appendix 5 shall apply until such time as a competent world radiocommunication conference revises it.

5.266 The use of the band 406-406.1 MHz by the mobile-satellite service is limited to low power satellite emergency position-indicating radiobeacons (see also Article 31 and Appendix 13).

5.267 Any emission capable of causing harmful interference to the authorized uses of the band 406-406.1 MHz is prohibited.

5.268 Use of the band 410-420 MHz by the space research service is limited to communications within 5 km of an orbiting, manned space vehicle. The power flux-density at the surface of the Earth produced by emissions from extra-vehicular activities shall not exceed −153 dB(W/m²) for 0° ≤ δ ≤ 5°, −153 + 0.077 (δ −5) dB(W/m²) for 5° ≤ δ ≤ 70° and −148 dB(W/m²) for 70° ≤ δ ≤ 90°, where δ is the angle of arrival of the radio-frequency wave and the reference bandwidth is 4 kHz. No. 4.10 does not apply to extra-vehicular activities. In this frequency band the space research (space-to-space) service shall not claim protection from, nor constrain the use and development of, stations of the fixed and mobile services.

5.269 Different category of service: in Australia, the United States, India, Japan and the United Kingdom, the allocation of the bands 420-430 MHz and 440-450 MHz to the radiolocation service is on a primary basis (see No. 5.33).

5.270 Additional allocation: in Australia, the United States, Jamaica and the Philippines, the bands 420-430 MHz and 440-450 MHz are also allocated to the amateur service on a secondary basis.

5.271 Additional allocation: in Azerbaijan, Belarus, China, Estonia, India, Latvia, Lithuania, Kyrgyzstan and Turkmenistan, the band 420-460 MHz is also allocated to the aeronautical radionavigation service (radio altimeters) on a secondary basis.

5.272 Different category of service: in France, the allocation of the band 430-434 MHz to the amateur service is on a secondary basis (see No. 5.32).

5.273 Different category of service: in Denmark, Libya and Norway, the allocation of the bands 430-432 MHz and 438-440 MHz to the radiolocation service is on a secondary basis (see No. 5.32).

5.274 Alternative allocation: in Denmark, Norway and Sweden, the bands 430-432 MHz and 438-440 MHz are allocated to the fixed and mobile, except aeronautical mobile, services on a primary basis.

5.275 Additional allocation: in Bosnia and Herzegovina, Croatia, Estonia, Finland, Latvia, The Former Yugoslav Republic of Macedonia, Libya, Slovenia and Yugoslavia, the bands 430-432 MHz and 438-440 MHz are also allocated to the fixed and mobile, except aeronautical mobile, services on a primary basis.]

5.276 Additional allocation: in Afghanistan, Algeria, Saudi Arabia, Bahrain, Bangladesh, Brunei Darussalam, Burkina Faso, Burundi, Egypt, the United Arab Emirates, Ecuador, Eritrea, Ethiopia, Greece, Guinea, India, Indonesia, Iran (Islamic Republic of), Iraq, Israel, Italy, Jordan, Kenya, Kuwait, Lebanon, Libya, Liechtenstein, Malaysia, Malta, Nigeria, Oman, Pakistan, the Philippines, Qatar, Syria, the Dem. People's Rep. of Korea, Singapore, Somalia, Switzerland, Tanzania, Thailand, Togo, Turkey and Yemen, the band 430-440 MHz is also allocated to the fixed service on a primary basis and the bands 430-435 MHz and 438-440 MHz are also allocated to the mobile, except aeronautical mobile, service on a primary basis.

5.277 Additional allocation: in Angola, Armenia, Azerbaijan, Belarus, Cameroon, Congo, Djibouti, Georgia, Hungary, Israel, Kazakstan, Latvia, Mali, Moldova, Mongolia, Uzbekistan, Poland, Kyrgyzstan, Slovakia, the Czech Rep., Romania, the Russian Federation, Rwanda, Tajikistan, Chad, Turkmenistan and Ukraine, the band 430-440 MHz is also allocated to the fixed service on a primary basis.

5.278 Different category of service: in Argentina, Colombia, Costa Rica, Cuba, Guyana, Honduras, Panama and Venezuela, the allocation of the band 430-440 MHz to the amateur service is on a primary basis (see No. 5.33).

5.279 Additional allocation: in Mexico, the bands 430-435 MHz and 438-440 MHz are also allocated on a primary basis to the land mobile service, subject to agreement obtained under No. 9.21. 5.280 In Germany, Austria, Bosnia and Herzegovina, Croatia, The Former Yugoslav Republic of Macedonia, Liechtenstein, Portugal, Slovenia, Switzerland and Yugoslavia, the band 433.05-434.79 MHz (centre frequency 433.92 MHz) is designated for industrial, scientific and medical (ISM) applications. Radiocommunication services of these countries operating within this band must accept harmful interference which may be caused by these applications. ISM equipment operating in this band is subject to the provisions of No. 15.13.

5.281 Additional allocation: in the French Overseas Departments in Region 2 and India, the band 433.75-434.25 MHz is also allocated to the space operation service (Earth-to-space) on a primary basis. In France and in Brazil, the band is allocated to the same service on a secondary basis.

5.282 In the bands 435-438 MHz, 1260-1270 MHz, 2400-2450 MHz, 3400-3410 MHz (in Regions 2 and 3 only) and 5650-5670 MHz, the amateur-satellite service may operate subject to not causing harmful interference to other services operating in accordance with the Table (see No. 5.43). Administrations authorizing such use shall ensure that any harmful interference caused by emissions from a station in the amateur-satellite service is immediately eliminated in accordance with the provisions of No. 25.11. The use of the bands 1260-1270 MHz and 5650-5670 MHz by the amateur-satellite service is limited to the Earth-to-space direction.

5.283 Additional allocation: in Austria, the band 438-440 MHz is also allocated to the fixed and mobile, except aeronautical mobile, services on a primary basis.

5.284 Additional allocation: in Canada, the band 440-450 MHz is also allocated to the amateur service on a secondary basis.

5.285 Different category of service: in Canada, the allocation of the band 440-450 MHz to the radiolocation service is on a primary basis (see No. 5.33).

5.286 The band 449.75-450.25 MHz may be used for the space operation service (Earth-to-space) and the space research service (Earth-to-space), subject to agreement obtained under No. 9.21.

5.286A The use of the bands 454-456 MHz and 459-460 MHz by the mobile-satellite service is subject to coordination under No. 9.11A.

5.286B The use of the band 454-455 MHz in the countries listed in No. 5.286D, 455-456 MHz and 459-460 MHz in Region 2, and 454-456 MHz and 459-460 MHz in the countries listed in No. 5.286E, by stations in the mobile-satellite service, shall not cause harmful interference to, or claim protection from, stations of the fixed or mobile services operating in accordance with the Table of Frequency Allocations.

5.286C The use of the band 454-455 MHz in the countries listed in No. 5.286D, 455-456 MHz and 459-460 MHz in Region 2, and 454-456 MHz and 459-460 MHz in the countries listed in No. 5.286E, by stations in the mobile-satellite service, shall not constrain the development and use of the fixed and mobile services operating in accordance with the Table of Frequency Allocations.

5.286D Additional allocation: in Canada, the United States, Mexico and Panama, the band 454-455 MHz is also allocated to the mobile-satellite service (Earth-to-space) on a primary basis.

5.286E Additional allocation: in Cape Verde, Indonesia, Nepal, Nigeria and Papua New Guinea, the bands 454-456 MHz and 459-460 MHz are also allocated to the mobile-satellite (Earth-to-space) service on a primary basis.

5.287 In the maritime mobile service, the frequencies 457.525 MHz, 457.550 MHz, 457.575 MHz, 467.525 MHz, 467.550 MHz and 467.575 MHz may be used by on-board communication stations. Where needed, equipment designed for 12.5 kHz channel spacing using also the additional frequencies 457.5375 MHz, 457.5625 MHz, 467.5375 MHz and 467.5625 MHz may be introduced for on-board communications. The use of these frequencies in territorial waters may be subject to the national regulations of the administration concerned. The characteristics of the equipment used shall conform to those specified in Recommendation ITU-R M.1174 (see Resolution 341 (WRC-97)).

5.288 In the territorial waters of the United States and the Philippines, the preferred frequencies for use by on-board communication stations shall be 457.525 MHz, 457.550 MHz, 457.575 MHz and 457.600 MHz paired, respectively, with 467.750 MHz, 467.775 MHz, 467.800 MHz and 467.825 MHz. The characteristics of the equipment used shall conform to those specified in Recommendation ITU-R M.1174.

5.289 Earth exploration-satellite service applications, other than the meteorological-satellite service, may also be used in the bands 460-470 MHz and 1690-1710 MHz for space-to-Earth transmissions subject to not causing harmful interference to stations operating in accordance with the Table.

5.290 Different category of service: in Afghanistan, Azerbaijan, Belarus, China, Japan, Mongolia, Uzbekistan, Kyrgyzstan, Slovakia, the Russian Federation, Tajikistan, Turkmenistan and Ukraine, the allocation of the band 460-470 MHz to the meteorological-satellite service (space-to-Earth) is on a primary basis (see No. 5.33), subject to agreement obtained under No. 9.21.

5.291 Additional allocation: in China, the band 470-485 MHz is also allocated to the space research (space-to-Earth) and the space operation (space-to-Earth) services on a primary basis subject to agreement obtained under No. 9.21 and subject to not causing harmful interference to existing and planned broadcasting stations.

5.291A Additional allocation: in Germany, Austria, Denmark, Estonia, Finland, Liechtenstein, Norway, Netherlands, the Czech Rep. and Switzerland, the band 470-494 MHz is also allocated to the radiolocation service on a secondary basis. This use is limited to the operation of wind profiler radars in accordance with Resolution 217 (WRC-97).

5.292 Different category of service: in Mexico and Venezuela, the allocation of the band 470-512 MHz to the fixed and mobile services, and in Argentina and Uruguay to the mobile service, is on a primary basis (see No. 5.33), subject to agreement obtained under No. 9.21.

5.293 Different category of service: in Canada, Chile, Colombia, Cuba, the United States, Guyana, Honduras, Jamaica, Mexico, Panama and Peru, the allocation of the bands 470-512 MHz and 614-806 MHz to the fixed and mobile services is on a primary basis (see No. 5.33), subject to agreement obtained under No. 9.21. In Argentina and Ecuador, the allocation of the band 470-512 MHz to the fixed and mobile services is on a primary basis (see No. 5.33), subject to agreement obtained under No. 9.21.

5.294 Additional allocation: in Burundi, Cameroon, the Congo, Ethiopia, Israel, Kenya, Lebanon, Libya, Malawi, Senegal, Sudan, Syria, and Yemen, the band 470-582 MHz is also allocated to the fixed service on a secondary basis.

5.296 Additional allocation: in Germany, Austria, Belgium, Cyprus, Denmark, Spain, Finland, France, Ireland, Israel, Italy, Libya, Lithuania, Malta, Morocco, Monaco, Norway, the Netherlands, Portugal, Syria, the United Kingdom, Sweden, Switzerland, Swaziland and Tunisia, the band 470-790 MHz is also allocated on a secondary basis to the land mobile service, intended for applications ancillary to broadcasting. Stations of the land mobile service in the countries listed in this footnote shall not cause harmful interference to existing or planned stations operating in accordance with the Table in countries other than those listed in this footnote.

5.297 Additional allocation: in Costa Rica, Cuba, El Salvador, the United States, Guatemala, Guyana, Honduras, Jamaica and Mexico, the band 512-608 MHz is also allocated to the fixed and mobile services on a primary basis, subject to agreement obtained under No. 9.21.

5.298 Additional allocation: in India, the band 549.75-550.25 MHz is also allocated to the space operation service (space-to-Earth) on a secondary basis.

5.300 Additional allocation: in Israel, Libya, Syria and Sudan, the band 582-790 MHz is also allocated to the fixed and mobile, except aeronautical mobile, services on a secondary basis.

5.302 Additional allocation: in the United Kingdom, the band 590-598 MHz is also allocated to the aeronautical radionavigation service on a primary basis. All new assignments to stations in the aeronautical radionavigation service, including those transferred from the adjacent bands, shall be subject to coordination with the Administrations of the following countries: Germany, Belgium, Denmark, Spain, France, Ireland, Luxembourg, Morocco, Norway and the Netherlands.

5.304 Additional allocation: in the African Broadcasting Area (see Nos. 5.10 to 5.13), the band 606-614 MHz is also allocated to the radio astronomy service on a primary basis.

5.305 Additional allocation: in China, the band 606-614 MHz is also allocated to the radio astronomy service on a primary basis.

5.306 Additional allocation: in Region 1, except in the African Broadcasting Area (see Nos. 5.10 to 5.13), and in Region 3, the band 608-614 MHz is also allocated to the radio astronomy service on a secondary basis.

5.307 Additional allocation: in India, the band 608-614 MHz is also allocated to the radio astronomy service on a primary basis.

5.309 Different category of service: in Costa Rica, El Salvador and Honduras, the allocation of the band 614-806 MHz to the fixed service is on a primary basis (see No. 5.33), subject to agreement obtained under No. 9.21.

5.311 Within the frequency band 620-790 MHz, assignments may be made to television stations using frequency modulation in the broadcasting-satellite service subject to agreement between the administrations concerned and those having services, operating in accordance with the Table, which may be affected (see Resolutions 33 (Rev.WRC-97) and 507). Such stations shall not produce a power flux-density in excess of the value −129 dB(W/m²) for angles of arrival less than 20° (see Recommendation 705) within the territories of other countries without the consent of the administrations of those countries.

5.312 Additional allocation: in Armenia, Azerbaijan, Belarus, Bulgaria, Georgia, Hungary, Kazakstan, Latvia, Moldova, Mongolia, Uzbekistan, Poland, Kyrgyzstan, Slovakia, the Czech Rep., Romania, Russian Federation, Tajikistan, Turkmenistan and Ukraine, the band 645-862 MHz is also allocated to the aeronautical radionavigation service on a primary basis.

5.314 Additional allocation: in Austria, Italy, Moldova, Uzbekistan, the United Kingdom and Swaziland, the band 790-862 MHz is also allocated to the land mobile service on a secondary basis.

5.315 Alternative allocation: in Greece, Italy and Tunisia, the band 790-838 MHz is allocated to the broadcasting service on a primary basis.

5.316 Additional allocation: in Germany, Saudi Arabia, Bosnia and Herzegovina, Burkina Faso, Cameroon, C“te d'Ivoire, Croatia, Denmark, Egypt, Finland, Israel, Kenya, The Former Yugoslav Republic of Macedonia, Libya, Liechtenstein, Monaco, Norway, the Netherlands, Portugal, Syria, Sweden, Switzerland and Yugoslavia, the band 790-830 MHz, and in these same countries and in Spain, France, Gabon and Malta, the band 830-862 MHz, are also allocated to the mobile, except aeronautical mobile, service on a primary basis. However, stations of the mobile service in the countries mentioned in connection with each band referred to in this footnote shall not cause harmful interference to, or claim protection from, stations of services operating in accordance with the Table in countries other than those mentioned in connection with the band.

5.317 Additional allocation: in Region 2 (except Brazil and the United States), the band 806-890 MHz is also allocated to the mobile-satellite service on a primary basis, subject to agreement obtained under No. 9.21. The use of this service is intended for operation within national boundaries.

5.317A Administrations wishing to implement International Mobile Telecommunications-2000 (IMT-2000) may use those parts of the band 806-960 MHz which are allocated to the mobile service on a primary basis and are used or planned to be used for mobile systems (see Resolution 224 (WRC-2000)). This identification does not preclude the use of these bands by any application of the services to which they are allocated and does not establish priority in the Radio Regulations.

5.318 Additional allocation: in Canada, the United States and Mexico, the ands 849-851 MHz and 894-896 MHz are also allocated to the aeronautical mobile service on a primary basis, for public correspondence with aircraft. The use of the band 849-851 MHz is limited to transmissions from aeronautical stations and the use of the band 894-896 MHz is limited to transmissions from aircraft stations.

5.319 Additional allocation: in Belarus, Russian Federation and Ukraine, the bands 806-840 MHz (Earth-to-space) and 856-890 MHz (space-to-Earth) are also allocated to the mobile-satellite, except aeronautical mobile-satellite (R), service. The use of these bands by this service shall not cause harmful interference to, or claim protection from, services in other countries operating in accordance with the Table of Frequency Allocations and is subject to special agreements between the administrations concerned.

5.320 Additional allocation: in Region 3, the bands 806-890 MHz and 942-960 MHz are also allocated to the mobile-satellite, except aeronautical mobile-satellite (R), service on a primary basis, subject to agreement obtained under No. 9.21. The use of this service is limited to operation within national boundaries. In seeking such agreement, appropriate protection shall be afforded to services operating in accordance with the Table, to ensure that no harmful interference is caused to such services.

5.321 Alternative allocation: in Italy, the band 838-854 MHz is allocated to the broadcasting service on a primary basis as from 1 January 1995.

5.322 In Region 1, in the band 862-960 MHz, stations of the broadcasting service shall be operated only in the African Broadcasting Area (see Nos. 5.10 to 5.13) excluding Algeria, Egypt, Spain, Libya, Morocco, Namibia, Nigeria, South Africa, Tanzania, Zimbabwe and Zambia, subject to agreement obtained under No. 9.21.

5.323 Additional allocation: in Armenia, Azerbaijan, Belarus, Bulgaria, Hungary, Kazakstan, Latvia, Moldova, Mongolia, Uzbekistan, Poland, Kyrgyzstan, Slovakia, the Czech Rep., Romania, Russian Federation, Tajikistan, Turkmenistan and Ukraine, the band 862-960 MHz is also allocated to the aeronautical radionavigation service on a primary basis. Such use is subject to agreement obtained under No. 9.21 with administrations concerned and limited to ground-based radiobeacons in operation on 27 October 1997 until the end of their lifetime.

5.325 Different category of service: in the United States, the allocation of the band 890-942 MHz to the radiolocation service is on a primary basis (see No. 5.33), subject to agreement obtained under No. 9.21.

5.325A Different category of service: in Cuba, the allocation of the band 902-915 MHz to the land mobile service is on a primary basis.

5.326 Different category of service: in Chile, the band 903-905 MHz is allocated to the mobile, except aeronautical mobile, service on a primary basis, subject to agreement obtained under No. 9.21.

5.327 Different category of service: in Australia, the allocation of the band 915-928 MHz to the radiolocation service is on a primary basis (see No. 5.33).

5.328 The use of the band 960-1215 MHz by the aeronautical radionavigation service is reserved on a worldwide basis for the operation and development of airborne electronic aids to air navigation and any directly associated ground-based facilities.

5.328A Additional allocation: the band 1164-1215 MHz is also allocated to the radionavigation-satellite service (space-to-Earth) (space-to-space) on a primary basis. The aggregate power flux-density produced by all the space stations of all radionavigation-satellite systems at the Earth's surface shall not exceed the provisional value of −115 dB(W/m²) in any 1 MHz band for all angles of arrival. Stations in the radionavigation-satellite service shall not cause harmful interference to, nor claim protection from, stations of the aeronautical-radionavigation service. The provisions of Resolution 605 (WRC-2000) apply.

5.329 Use of the radionavigation-satellite service in the band 1215-1300 MHz shall be subject to the condition that no harmful interference is caused to, and no protection is claimed from, the radionavigation service authorized under No. 5.331. See also Resolution 606 (WRC-2000).

5.329A Use of systems in the radionavigation-satellite service (space-to-space) operating in the bands 1215-1300 MHz and 1559-1610 MHz is not intended to provide safety service applications, and shall not impose any additional constraints on other systems or services operating in accordance with the Table.

5.330 Additional allocation: in Angola, Saudi Arabia, Bahrain, Bangladesh, Cameroon, China, the United Arab Emirates, Eritrea, Ethiopia, Guyana, India, Indonesia, Iran (Islamic Republic of), Iraq, Israel, Japan, Jordan, Kuwait, Lebanon, Libya, Morocco, Mozambique, Nepal, Nigeria, Pakistan, the Philippines, Qatar, Syria, Somalia, Sudan, Sri Lanka, Chad, Togo and Yemen, the band 1215-1300 MHz is also allocated to the fixed and mobile services on a primary basis.

5.331 Additional allocation: in Algeria, Germany, Austria, Bahrain, Belgium, Benin, Bosnia and Herzegovina, Burundi, Cameroon, China, Croatia, Denmark, the United Arab Emirates, France, Greece, India, Iran (Islamic Republic of), Iraq, Kenya, The Former Yugoslav Republic of Macedonia, Liechtenstein, Luxembourg, Mali, Mauritania, Norway, Oman, the Netherlands, Portugal, Qatar, Senegal, Slovenia, Somalia, Sudan, Sri Lanka, Sweden, Switzerland, Turkey and Yugoslavia, the band 1215-1300 MHz is also allocated to the radionavigation service on a primary basis.

5.332 In the band 1215-1260 MHz, active spaceborne sensors in the Earth exploration-satellite and space research services shall not cause harmful interference to, claim protection from, or otherwise impose constraints on operation or development of the radiolocation service, the radionavigation-satellite service and other services allocated on a primary basis.

5.333 In the bands 1215-1300 MHz, 3100-3300 MHz, 5250-5350 MHz, 8550-8650 MHz, 9500-9800 MHz and 13.4-14.0 GHz, radiolocation stations installed on spacecraft may also be employed for the earth exploration-satellite and space research services on a secondary basis. (SUP-WRC-97)

5.334 Additional allocation: in Canada and the United States, the bands 1240-1300 MHz and 1350-1370 MHz are also allocated to the aeronautical radionavigation service on a primary basis.

5.335 In Canada and the United States in the band 1240-1300 MHz, active spaceborne sensors in the earth exploration-satellite and space research services shall not cause interference to, claim protection from, or otherwise impose constraints on operation or development of the aeronautical radionavigation service.

5.335A In the band 1260-1300 MHz, active spaceborne sensors in the Earth exploration-satellite and space research services shall not cause harmful interference to, claim protection from, or otherwise impose constraints on operation or development of the radiolocation service and other services allocated by footnotes on a primary basis.

5.337 The use of the bands 1300-1350 MHz, 2700-2900 MHz and 9000-9200 MHz by the aeronautical radionavigation service is restricted to ground-based radars and to associated airborne transponders which transmit only on frequencies in these bands and only when actuated by radars operating in the same band.

5.337A The use of the band 1300-1350 MHz by earth stations in the radionavigation-satellite service and by stations in the radiolocation service shall not cause harmful interference to, nor constrain the operation and development of, the aeronautical-radionavigation service.

5.338 In Azerbaijan, Bulgaria, Mongolia, Kyrgyzstan, Slovakia, the Czech Rep., Romania and Turkmenistan, existing installations of the radionavigation service may continue to operate in the band 1350-1400 MHz.

5.339 The bands 1370-1400 MHz, 2640-2655 MHz, 4950-4990 MHz and 15.20-15.35 GHz are also allocated to the space research (passive) and earth exploration-satellite (passive) services on a secondary basis.

5.340 All emissions are prohibited in the following bands:

1400-1427 MHz,

2690-2700 MHz, except those provided for by Nos. 5.421 and 5.422,

10.68-10.7 GHz, except those provided for by No. 5.483,

15.35-15.4 GHz, except those provided for by No. 5.511,

23.6-24 GHz,

31.3-31.5 GHz,

31.5-31.8 GHz, in Region 2,

48.94-49.04 GHz,from airborne stations,

50.2-50.4 GHz,² except those provided for by No. 5.555A,

² 5.340.1 The allocation to the earth exploration-satellite service (passive) and the space research service (passive) in the band 50.2-50.4 GHz should not impose undue constraints on the use of the adjacent bands by the primary allocated services in those bands.

52.6-54.25 GHz,

86-92 GHz,

100-102 GHz,

109.5-111.8 GHz,

114.25-116 GHz,

148.5-151.5 GHz,

164-167 GHz,

182-185 GHz, except those provided for by No. 5.563,

190-191.8 GHz,

200-209 GHz,

226-231.5 GHz,

250-252 GHz.

5.341 In the bands 1400-1727 MHz, 101-120 GHz and 197-220 GHz, passive research is being conducted by some countries in a programme for the search for intentional emissions of extraterrestrial origin.

5.342 Additional allocation: in Armenia, Azerbaijan, Belarus, Bulgaria, Uzbekistan, Kyrgystan, the Russian Federation and Ukraine, the band 1429-1535 MHz is also allocated to the aeronautical mobile service on a primary basis exclusively for the purposes of aeronautical telemetry within the national territory. As of 1 April 2007, the use of the band 1452-1492 MHz is subject to agreement between the administrations concerned.

5.343 In Region 2, the use of the band 1435-1535 MHz by the aeronautical mobile service for telemetry has priority over other uses by the mobile service.

5.344 Alternative allocation: in the United States, the band 1452-1525 MHz is allocated to the fixed and mobile services on a primary basis (see also No. 5.343).

5.345 Use of the band 1452-1492 MHz by the broadcasting-satellite service, and by the broadcasting service, is limited to digital audio broadcasting and is subject to the provisions of Resolution 528 (WARC-92).

5.347 Different category of service: in Bangladesh, Bosnia and Herzegovina, Botswana, Bulgaria, Burkina Faso, Cuba, Denmark, Egypt, Greece, Ireland, Italy, Kenya, Mozambique, Portugal, Sri Lanka, Swaziland, Yemen, Yugoslavia and Zimbabwe, the allocation of the band 1452-1492 MHz to the broadcasting-satellite service and the broadcasting service is on a secondary basis until 1 April 2007.

5.348 The use of the band 1492-1525 MHz by the mobile-satellite service is subject to coordination under No. 9.11A. However, no coordination threshold in Article 21 for space stations of the mobile-satellite service with respect to terrestrial services shall apply to the situation referred to in No. 5.343. With respect to the situation referred to in No. 5.343, the requirement for coordination in the band 1492-1525 MHz will be determined by band overlap.

5.348A In the band 1492-1525 MHz, the coordination threshold in terms of the power flux-density levels at the surface of the Earth in application of No. 9.11A for space stations in the mobile-satellite (space-to-Earth) service, with respect to the land mobile service use for specialized mobile radios or used in conjunction with public switched telecommunication networks (PSTN) operating within the territory of Japan, shall be -150 dB(W/m²) in any 4 kHz band for all angles of arrival, instead of those given in Table 5-2 of Appendix 5. The above threshold level of the power flux-density shall apply until it is changed by a competent world radiocommunication conference.

5.349 Different category of service: in Saudi Arabia, Azerbaijan, Bahrain, Bosnia and Herzegovina, Cameroon, Egypt, France, Iran (Islamic Republic of), Iraq, Israel, Kazakstan, Kuwait, The Former Yugoslav Republic of Macedonia, Lebanon, Morocco, Qatar, Syria, Kyrgyzstan, Romania, Turkmenistan, Yemen and Yugoslavia, the allocation of the band 1525-1530 MHz to the mobile, except aeronautical mobile, service is on a primary basis (see No. 5.33).

5.350 Additional allocation: in Azerbaijan, Kyrgyzstan and Turkmenistan, the band 1525-1530 MHz is also allocated to the aeronautical mobile service on a primary basis.

5.351 The bands 1525-1544 MHz, 1545-1559 MHz, 1626.5-1645.5 MHz and 1646.5-1660.5 MHz shall not be used for feeder links of any service. In exceptional circumstances, however, an earth station at a specified fixed point in any of the mobile-satellite services may be authorized by an administration to communicate via space stations using these bands.

5.351A For the use of the bands 1525-1544 MHz, 1545-1559 MHz, 1610-1626.5 MHz, 1626.5-1645.5 MHz, 1646.5-1660.5 MHz, 1980-2010 MHz, 2170-2200 MHz, 2483.5-2500 MHz, 2500-2520 MHz and 2670-2690 MHz by the mobile-satellite service, see Resolutions 212 (Rev.WRC-97) and 225 (WRC-2000).

5.352A In the band 1525-1530 MHz, stations in the mobile-satellite service, except stations in the maritime mobile-satellite service, shall not cause harmful interference to, or claim protection from, stations of the fixed service in France and French overseas territories in Region 3, Algeria, Saudi Arabia, Egypt, Guinea, India, Israel, Italy, Jordan, Kuwait, Mali, Malta, Morocco, Mauritania, Nigeria, Oman, Pakistan, Philippines, Qatar, Syria, Tanzania, Viet Nam and Yemen notified prior to 1 April 1998.

5.353A In applying the procedures of Section II of Article 9 to the mobile-satellite service in the bands 1530-1544 MHz and 1626.5-1645.5 MHz, priority shall be given to accommodating the spectrum requirements for distress, urgency and safety communications of the Global Maritime Distress and Safety System (GMDSS). Maritime mobile-satellite distress, urgency and safety communications shall have priority access and immediate availability over all other mobile satellite communications operating within a network. Mobile-satellite systems shall not cause unacceptable interference to, or claim protection from, distress, urgency and safety communications of the GMDSS. Account shall be taken of the priority of safety-related communications in the other mobile-satellite services. (The provisions of Resolution 222 (WRC-2000) shall apply.)

5.354 The use of the bands 1525-1559 MHz and 1626.5-1660.5 MHz by the mobile-satellite services is subject to coordination under No. 9.11A.

5.355 Additional allocation: in Bahrain, Bangladesh, Congo, Egypt, Eritrea, Iraq, Israel, Jordan, Kuwait, Lebanon, Malta, Morocco, Qatar, Syria, Somalia, Sudan, Chad, Togo and Yemen, the bands 1540-1559 MHz, 1610-1645.5 MHz and 1646.5-1660 MHz are also allocated to the fixed service on a secondary basis.

5.356 The use of the band 1544-1545 MHz by the mobile-satellite service (space-to-Earth) is limited to distress and safety communications (see Article 31).

5.357 Transmissions in the band 1545-1555 MHz from terrestrial aeronautical stations directly to aircraft stations, or between aircraft stations, in the aeronautical mobile (R) service are also authorized when such transmissions are used to extend or supplement the satellite-to-aircraft links.

5.357A In applying the procedures of Section II of Article 9 to the mobile-satellite service in the bands 1545-1555 MHz and 1646.5-1656.5 MHz, priority shall be given to accommodating the spectrum requirements of the aeronautical mobile-satellite (R) service providing transmission of messages with priority 1 to 6 in Article 44. Aeronautical mobile-satellite (R) service communications with priority 1 to 6 in Article 44 shall have priority access and immediate availability, by pre-emption if necessary, over all other mobile-satellite communications operating within a network. Mobile-satellite systems shall not cause unacceptable interference to, or claim protection from, aeronautical mobile-satellite (R) service communications with priority 1 to 6 in Article 44. Account shall be taken of the priority of safety-related communications in the other mobile-satellite services. (The provisions of Resolution 222 (WRC-2000) shall apply.)

5.359 Additional allocation: in Germany, Saudi Arabia, Armenia, Austria, Azerbaijan, Belarus, Benin, Bosnia and Herzegovina, Bulgaria, Cameroon, Spain, France, Gabon, Georgia, Greece, Guinea, Guinea-Bissau, Hungary, Jordan, Kazakstan, Kuwait, Latvia, Lebanon, Libya, Lithuania, Mali, Morocco, Mauritania, Moldova, Mongolia, Nigeria, Uganda, Uzbekistan, Pakistan, Poland, Syria, Kyrgyzstan, the Dem. People's Rep. of Korea, Romania, the Russian Federation, Senegal, Swaziland, Tajikistan, Tanzania, Tunisia, Turkmenistan and Ukraine, the bands 1550-1559 MHz, 1610-1645.5 MHz and 1646.5-1660 MHz are also allocated to the fixed service on a primary basis. Administrations are urged to make all practicable efforts to avoid the implementation of new fixed-service stations in these bands.

5.362A In the United States, in the bands 1555-1559 MHz and 1656.5-1660.5 MHz, the aeronautical mobile-satellite (R) service shall have priority access and immediate availability, by pre-emption if necessary, over all other mobile-satellite communications operating within a network. Mobile-satellite systems shall not cause unacceptable interference to, or claim protection from, aeronautical mobile-satellite (R) service communications with priority 1 to 6 in Article 44. Account shall be taken of the priority of safety-related communications in the other mobile-satellite services.

5.362B Additional allocation: The band 1559-1610 MHz is also allocated to the fixed service on a primary basis until 1 January 2005 in Germany, Armenia, Azerbaijan, Belarus, Benin, Bosnia and Herzegovina, Bulgaria, Spain, France, Gabon, Georgia, Greece, Guinea, Guinea-Bissau, Hungary, Kazakstan, Latvia, Lithuania, Moldova, Mongolia, Nigeria, Uganda, Uzbekistan, Pakistan, Poland, Kyrgyzstan, the Dem. People's Rep. of Korea, Romania, the Russian Federation, Senegal, Swaziland, Tajikistan, Tanzania, Turkmenistan and Ukraine, and until 1 January 2010 in Saudi Arabia, Cameroon, Jordan, Kuwait, Lebanon, Libya, Mali, Morocco, Mauritania, Syria and Tunisia. After these dates, the fixed service may continue to operate on a secondary basis until 1 January 2015, at which time this allocation shall no longer be valid. Administrations are urged to take all practicable steps to protect the radionavigation-satellite service and the aeronautical radionavigation service and not authorize new frequency assignments to fixed-service systems in this band.

5.362C Additional allocation: in Bahrain, Bangladesh, Congo, Egypt, Eritrea, Iraq, Israel, Jordan, Kuwait, Lebanon, Malta, Morocco, Qatar, Syria, Somalia, Sudan, Chad, Togo and Yemen, the band 1559-1610 MHz is also allocated to the fixed service on a secondary basis until 1 January 2015, at which time this allocation shall no longer be valid. Administrations are urged to take all practicable steps to protect the radionavigation-satellite service and not authorize new frequency assignments to fixed-service systems in this band.

5.363 Alternative allocation: in Sweden, the band 1590-1626.5 MHz is allocated to the aeronautical radionavigation service on a primary basis.

5.364 The use of the band 1610-1626.5 MHz by the mobile-satellite service (Earth-to-space) and by the radiodetermination-satellite service (Earth-to-space) is subject to coordination under No. 9.11A. A mobile earth station operating in either of the services in this band shall not produce a peak e.i.r.p. density in excess of −15 dB(W/4 kHz) in the part of the band used by systems operating in accordance with the provisions of No. 5.366 (to which No. 4.10 applies), unless otherwise agreed by the affected administrations. In the part of the band where such systems are not operating, the mean e.i.r.p. density of a mobile earth station shall not exceed −3 dB(W/4 kHz). Stations of the mobile-satellite service shall not claim protection from stations in the aeronautical radionavigation service, stations operating in accordance with the provisions of No. 5.366 and stations in the fixed service operating in accordance with the provisions of No. 5.359. Administrations responsible for the coordination of mobile-satellite networks shall make all practicable efforts to ensure protection of stations operating in accordance with the provisions of No. 5.366.

5.365 The use of the band 1613.8-1626.5 MHz by the mobile-satellite service (space-to-Earth) is subject to coordination under No. 9.11A.

5.366 The band 1610-1626.5 MHz is reserved on a worldwide basis for the use and development of airborne electronic aids to air navigation and any directly associated ground-based or satellite-borne facilities. Such satellite use is subject to agreement obtained under No. 9.21.

5.367 Additional allocation: The bands 1610-1626.5 MHz and 5000-5150 MHz are also allocated to the aeronautical mobile-satellite (R) service on a primary basis, subject to agreement obtained under No. 9.21.

5.368 With respect to the radiodetermination-satellite and mobile-satellite services the provisions of No. 4.10 do not apply in the band 1610-1626.5 MHz, with the exception of the aeronautical radionavigation-satellite service.

5.369 Different category of service: in Angola, Australia, Burundi, China, Côte d'Ivoire, Eritrea, Ethiopia, India, Iran (Islamic Republic of), Israel, Jordan, Lebanon, Liberia, Libya, Madagascar, Mali, Pakistan, Papua New Guinea, Dem. Rep. of the Congo, Syria, Senegal, Sudan, Swaziland, Togo and Zambia, the allocation of the band 1610-1626.5 MHz to the radiodetermination-satellite service (Earth-to-space) is on a primary basis (see No. 5.33), subject to agreement obtained under No. 9.21 from countries not listed in this provision.

5.370 Different category of service: in Venezuela, the allocation to the radiodetermination-satellite service in the band 1610-1626.5 MHz (Earth-to-space) is on a secondary basis.

5.371 Additional allocation: in Region 1, the bands 1610-1626.5 MHz (Earth-to-space) and 2483.5-2500 MHz (space-to-Earth) are also allocated to the radiodetermination-satellite service on a secondary basis, subject to agreement obtained under No. 9.21.

5.372 Harmful interference shall not be caused to stations of the radio astronomy service using the band 1610.6-1613.8 MHz by stations of the radiodetermination-satellite and mobile-satellite services (No. 29.13 applies).

5.374 Mobile earth stations in the mobile-satellite service operating in the bands 1631.5-1634.5 MHz and 1656.5-1660 MHz shall not cause harmful interference to stations in the fixed service operating in the countries listed in No. 5.359.

5.375 The use of the band 1645.5-1646.5 MHz by the mobile-satellite service (Earth-to-space) and for inter-satellite links is limited to distress and safety communications (see Article 31).

5.376 Transmissions in the band 1646.5-1656.5 MHz from aircraft stations in the aeronautical mobile (R) service directly to terrestrial aeronautical stations, or between aircraft stations, are also authorized when such transmissions are used to extend or supplement the aircraft-to-satellite links.

5.376A Mobile earth stations operating in the band 1660-1660.5 MHz shall not cause harmful interference to stations in the radio astronomy service.

5.377 In the band 1675-1710 MHz, stations in the mobile-satellite service shall not cause harmful interference to, nor constrain the development of, the meteorological-satellite and meteorological aids services (see Resolution 213 (Rev.WRC-95) ³) and the use of this band shall be subject to coordination under No. 9.11A.

³ Note by the Secretariat: This Resolution was abrogated by WRC-2000.

5.379 Additional allocation: in Bangladesh, India, Indonesia, Nigeria and Pakistan, the band 1660.5-1668.4 MHz is also allocated to the meteorological aids service on a secondary basis.

5.379A Administrations are urged to give all practicable protection in the band 1660.5-1668.4 MHz for future research in radio astronomy, particularly by eliminating air-to-ground transmissions in the meteorological aids service in the band 1664.4-1668.4 MHz as soon as practicable.

5.380 The bands 1670-1675 MHz and 1800-1805 MHz are intended for use, on a worldwide basis, by administrations wishing to implement aeronautical public correspondence. The use of the band 1670-1675 MHz by stations in the systems for public correspondence with aircraft is limited to transmissions from aeronautical stations and the use of the band 1800-1805 MHz is limited to transmissions from aircraft stations.

5.381 Additional allocation: in Afghanistan, Costa Rica, Cuba, India, Iran (Islamic Republic of), Malaysia, Pakistan and Sri Lanka, the band 1690-1700 MHz is also allocated to the fixed and mobile, except aeronautical mobile, services on a primary basis.

5.382 Different category of service: in Saudi Arabia, Armenia, Austria, Azerbaijan, Bahrain, Belarus, Bosnia and Herzegovina, Bulgaria, the Congo, Egypt, the United Arab Emirates, Eritrea, Ethiopia, Guinea, Hungary, Iraq, Israel, Jordan, Kazakstan, Kuwait, the Former Yugoslav Republic of Macedonia, Lebanon, Mauritania, Moldova, Mongolia, Oman, Uzbekistan, Poland, Qatar, Syria, Kyrgyzstan, Romania, Russian Federation, Somalia, Tajikistan, Tanzania, Turkmenistan, Ukraine, Yemen and Yugoslavia, the allocation of the band 1690-1700 MHz to the fixed and mobile, except aeronautical mobile, services is on a primary basis (see No. 5.33), and in the Dem. People's Rep. of Korea, the allocation of the band 1690-1700 MHz to the fixed service is on a primary basis (see No. 5.33) and to the mobile, except aeronautical mobile, service on a secondary basis.

5.384 Additional allocation: in India, Indonesia and Japan, the band 1700-1710 MHz is also allocated to the space research service (space-to-Earth) on a primary basis.

5.384A The bands, or portions of the bands, 1710-1885 MHz and 2500-2690 MHz, are identified for use by administrations wishing to implement International Mobile Telecommunications-2000 (IMT-2000) in accordance with Resolution 223 (WRC-2000). This identification does not preclude the use of these bands by any application of the services to which they are allocated and does not establish priority in the Radio Regulations.

5.385 Additional allocation: the band 1718.8-1722.2 MHz is also allocated to the radio astronomy service on a secondary basis for spectral line observations.

5.386 Additional allocation: the band 1750-1850 MHz is also allocated to the space operation (Earth-to-space) and space research (Earth-to-space) services in Region 2, in Australia, India, Indonesia and Japan on a primary basis, subject to agreement obtained under No. 9.21, having particular regard to troposcatter systems.

5.387 Additional allocation: in Azerbaijan, Belarus, Georgia, Kazakstan, Mali, Mongolia, Kyrgyzstan, Slovakia, Romania, Tajikistan and Turkmenistan, the band 1770-1790 MHz is also allocated to the meteorological-satellite service on a primary basis, subject to agreement obtained under No. 9.21.

5.388 The bands 1885-2025 MHz and 2110-2200 MHz are intended for use, on a worldwide basis, by administrations wishing to implement International Mobile Telecommunications-2000 (IMT-2000). Such use does not preclude the use of these bands by other services to which they are allocated. The bands should be made available for IMT-2000 in accordance with Resolution 212 (Rev.WRC-97). (See also Resolution 223 (WRC-2000).)

5.388A In Regions 1 and 3, the bands 1885-1980 MHz, 2010-2025 MHz and 2110-2170 MHz and, in Region 2, the bands 1885-1980 MHz and 2110-2160 MHz may be used by high altitude platform stations as base stations to provide International Mobile Telecommunications-2000 (IMT-2000), in accordance with Resolution 221 (WRC-2000). The use by IMT-2000 applications using high altitude platform stations as base stations does not preclude the use of these bands by any station in the services to which they are allocated and does not establish priority in the Radio Regulations.

5.389A The use of the bands 1980-2010 MHz and 2170-2200 MHz by the mobile-satellite service is subject to coordination under No. 9.11A and to the provisions of Resolution 716 (WRC-95) ⁴. The use of these bands shall not commence before 1 January 2000; however the use of the band 1980-1990 MHz in Region 2 shall not commence before 1 January 2005.

⁴ Note by the Secretariat: This Resolution was revised by WRC-2000.

5.389B The use of the band 1980-1990 MHz by the mobile-satellite service shall not cause harmful interference to or constrain the development of the fixed and mobile services in Argentina, Brazil, Canada, Chile, Ecuador, the United States, Honduras, Jamaica, Mexico, Peru, Suriname, Trinidad and Tobago, Uruguay and Venezuela.

5.389C The use of the bands 2010-2025 MHz and 2160-2170 MHz in Region 2 by the mobile-satellite service shall not commence before 1 January 2002 and is subject to coordination under No. 9.11A and to the provisions of Resolution 716 (WRC-95) ⁴.

5.389D In Canada and the United States the use of the bands 2010-2025 MHz and 2160-2170 MHz by the mobile-satellite service shall not commence before 1 January 2000.

5.389E The use of the bands 2010-2025 MHz and 2160-2170 MHz by the mobile-satellite service in Region 2 shall not cause harmful interference to or constrain the development of the fixed and mobile services in Regions 1 and 3.

5.389F In Algeria, Benin, Cape Verde, Egypt, Iran (Islamic Republic of), Mali, Syria and Tunisia, the use of the bands 1980-2010 MHz and 2170-2200 MHz by the mobile-satellite service shall neither cause harmful interference to the fixed and mobile services, nor hamper the development of those services prior to 1 January 2005, nor shall the former service request protection from the latter services.

5.390 In Argentina, Brazil, Chile, Colombia, Cuba, Ecuador, Suriname and Uruguay, the use of the bands 2010-2025 MHz and 2160-2170 MHz by the mobile-satellite services shall not cause harmful interference to stations in the fixed and mobile services before 1 January 2005. After this date, the use of these bands is subject to coordination under No. 9.11A and to the provisions of Resolution 716 (WRC-95).⁵

⁵ Note by the Secretariat: This Resolution was revised by WRC-2000.

5.391 In making assignments to the mobile service in the bands 2025-2110 MHz and 2200-2290 MHz, administrations shall not introduce high-density mobile systems, as described in Recommendation ITU-R SA.1154, and shall take that Recommendation into account for the introduction of any other type of mobile system.

5.392 Administrations are urged to take all practicable measures to ensure that space-to-space transmissions between two or more non-geostationary satellites, in the space research, space operations and Earth exploration-satellite services in the bands 2025-2110 MHz and 2200-2290 MHz, shall not impose any constraints on Earth-to-space, space-to-Earth and other space-to-space transmissions of those services and in those bands between geostationary and non-geostationary satellites.

5.392A Additional allocation: in Russian Federation, the band 2160-2200 MHz is also allocated to the space research service (space-to-Earth) on a primary basis until 1 January 2005. Stations in the space research service shall not cause harmful interference to, or claim protection from, stations in the fixed and mobile services operating in this frequency band.

5.393 Additional allocation: in the United States, India and Mexico, the band 2310-2360 MHz is also allocated to the broadcasting-satellite service (sound) and complementary terrestrial sound broadcasting service on a primary basis. Such use is limited to digital audio broadcasting and is subject to the provisions of Resolution 528 (WARC-92), with the exception of resolves 3 in regard to the limitation on broadcasting-satellite systems in the upper 25 MHz.

5.394 In the United States, the use of the band 2300-2390 MHz by the aeronautical mobile service for telemetry has priority over other uses by the mobile services. In Canada, the use of the band 2300-2483.5 MHz by the aeronautical mobile service for telemetry has priority over other uses by the mobile services.

5.395 In France, the use of the band 2310-2360 MHz by the aeronautical mobile service for telemetry has priority over other uses by the mobile service.

5.396 Space stations of the broadcasting-satellite service in the band 2310-2360 MHz operating in accordance with No. 5.393 that may affect the services to which this band is allocated in other countries shall be coordinated and notified in accordance with Resolution 33 (Rev.WRC-97). Complementary terrestrial broadcasting stations shall be subject to bilateral coordination with neighbouring countries prior to their bringing into use.

5.397 Different category of service: in France, the band 2450-2500 MHz is allocated on a primary basis to the radiolocation service (see No. 5.33). Such use is subject to agreement with administrations having services operating or planned to operate in accordance with the Table of Frequency Allocations which may be affected.

5.398 In respect of the radiodetermination-satellite service in the band 2483.5-2500 MHz, the provisions of No. 4.10 do not apply.

5.399 In Region 1, in countries other than those listed in No. 5.400, harmful interference shall not be caused to, or protection shall not be claimed from, stations of the radiolocation service by stations of the radiodetermination satellite service.

5.400 Different category of service: in Angola, Australia, Bangladesh, Burundi, China, Eritrea, Ethiopia, India, Iran (Islamic Republic of), Jordan, Lebanon, Liberia, Libya, Madagascar, Mali, Pakistan, Papua New Guinea, Dem. Rep. of the Congo, Syria, Sudan, Swaziland, Togo and Zambia, the allocation of the band 2483.5-2500 MHz to the radiodetermination-satellite service (space-to-Earth) is on a primary basis (see No. 5.33), subject to agreement obtained under No. 9.21 from countries not listed in this provision.

5.402 The use of the band 2483.5-2500 MHz by the mobile-satellite and the radiodetermination-satellite services is subject to the coordination under No. 9.11A. Administrations are urged to take all practicable steps to prevent harmful interference to the radio astronomy service from emissions in the 2483.5-2500 MHz band, especially those caused by second-harmonic radiation that would fall into the 4990-5000 MHz band allocated to the radio astronomy service worldwide.

5.403 Subject to agreement obtained under No. 9.21, the band 2520-2535 MHz (until 1 January 2005 the band 2500-2535 MHz) may also be used for the mobile-satellite (space-to-Earth), except aeronautical mobile-satellite, service for operation limited to within national boundaries. The provisions of No. 9.11A apply.

5.404 Additional allocation: in India and Iran (Islamic Republic of), the band 2500-2516.5 MHz may also be used for the radiodetermination-satellite service (space-to-Earth) for operation limited to within national boundaries, subject to agreement obtained under No. 9.21.

5.405 Additional allocation: in France, the band 2500-2550 MHz is also allocated to the radiolocation service on a primary basis. Such use is subject to agreement with the administrations having services operating or planned to operate in accordance with the Table which may be affected.

5.407 In the band 2500-2520 MHz, the power flux-density at the surface of the Earth from space stations operating in the mobile-satellite (space-to-Earth) service shall not exceed −152 dB(W/(m² 4 kHz)) in Argentina, unless otherwise agreed by the administrations concerned.

5.409 Administrations shall make all practicable efforts to avoid developing new tropospheric scatter systems in the band 2500-2690 MHz.

5.410 The band 2500-2690 MHz may be used for tropospheric scatter systems in Region 1, subject to agreement obtained under No. 9.21.

5.411 When planning new tropospheric scatter radio-relay links in the band 2500-2690 MHz, all possible measures shall be taken to avoid directing the antennae of these links towards the geostationary-satellite orbit.

5.412 Alternative allocation: in Azerbaijan, Bulgaria, Kyrgyzstan and Turkmenistan, the band 2500-2690 MHz is allocated to the fixed and mobile, except aeronautical mobile, services on a primary basis.

5.413 In the design of systems in the broadcasting-satellite service in the bands between 2500 MHz and 2690 MHz, administrations are urged to take all necessary steps to protect the radio astronomy service in the band 2690-2700 MHz.

5.414 The allocation of the frequency band 2500-2520 MHz to the mobile-satellite service (space-to-Earth) shall be effective on 1 January 2005 and is subject to coordination under No. 9.11A.

5.415 The use of the bands 2500-2690 MHz in Region 2 and 2500-2535 MHz and 2655-2690 MHz in Region 3 by the fixed-satellite service is limited to national and regional systems, subject to agreement obtained under No. 9.21, giving particular attention to the broadcasting-satellite service in Region 1. In the direction space-to-Earth, the power flux-density at the Earth's surface shall not exceed the values given in Article 21, Table 21-4.

5.415A Additional allocation: in India and Japan, subject to agreement obtained under No. 9.21, the band 2515-2535 MHz may also be used for the aeronautical mobile-satellite service (space-to-Earth) for operation limited to within their national boundaries.

5.416 The use of the band 2520-2670 MHz by the broadcasting-satellite service is limited to national and regional systems for community reception, subject to agreement obtained under No. 9.21. The power flux-density at the Earth's surface shall not exceed the values given in Article 21, Table 21-4.

5.418 Additional allocation: in Bangladesh, Belarus, Korea (Rep. of), India, Japan, Pakistan, Singapore, Sri Lanka and Thailand, the band 2535-2655 MHz is also allocated to the broadcasting-satellite service (sound) and complementary terrestrial broadcasting service on a primary basis. Such use is limited to digital audio broadcasting and is subject to the provisions of Resolution 528 (WARC-92). The provisions of No. 5.416 and Table 21-4 of Article 21, do not apply to this additional allocation. Use of non-geostationary-satellite systems in the broadcasting-satellite service (sound) is subject to Resolution 539 (WRC-2000).

5.418A In certain Region 3 countries listed in No. 5.418, use of the band 2630-2655 MHz by non-geostationary-satellite systems in the broadcasting-satellite service (sound) for which complete Appendix 4 coordination information, or notification information, has been received after 2 June 2000, is subject to the application of the provisions of No. 9.12A, in respect of geostationary-satellite networks for which complete Appendix 4 coordination information, or notification information, is considered to have been received after 2 June 2000, and No. 22.2 does not apply. No. 22.2 shall continue to apply with respect to geostationary-satellite networks for which complete Appendix 4 coordination information, or notification information, is considered to have been received before 3 June 2000. Use of the band by non-geostationary-satellite systems in the broadcasting-satellite service (sound) is subject to the provisions of Resolution 539 (WRC-2000), and such systems shall be in accordance with Resolution 528 (WARC-92).

5.418B Use of the band 2630-2655 MHz by non-geostationary-satellite systems for which complete Appendix 4 coordination information, or notification information, has been received after 2 June 2000, is subject to the application of the provisions of No. 9.12. Resolution 539 (WRC-2000) applies.

5.418C Use of the band 2630-2655 MHz by geostationary-satellite networks for which complete Appendix 4 coordination information, or notification information, has been received after 2 June 2000 is subject to the application of the provisions of No. 9.13 with respect to non-geostationary-satellite systems in the broadcasting-satellite service (sound), and No. 22.2 does not apply. Resolution 539 (WRC-2000) applies.

5.419 The allocation of the frequency band 2670-2690 MHz to the mobile-satellite service shall be effective from 1 January 2005. When introducing systems of the mobile-satellite service in this band, administrations shall take all necessary steps to protect the satellite systems operating in this band prior to 3 March 1992. The coordination of mobile-satellite systems in the band shall be in accordance with No. 9.11A.

5.420 The band 2655-2670 MHz (until 1 January 2005 the band 2655-2690 MHz) may also be used for the mobile-satellite (Earth-to-space), except aeronautical mobile-satellite, service for operation limited to within national boundaries, subject to agreement obtained under No. 9.21. The coordination under No. 9.11A applies.

5.420A Additional allocation: in India and Japan, subject to agreement obtained under No. 9.21, the band 2670-2690 MHz may also be used for the aeronautical mobile-satellite service (Earth-to-space) for operation limited to within their national boundaries.

5.421 Additional allocation: in Germany and Austria, the band 2690-2695 MHz is also allocated to the fixed service on a primary basis. Such use is limited to equipment in operation by 1 January 1985.

5.422 Additional allocation: in Saudi Arabia, Armenia, Azerbaijan, Bahrain, Belarus, Bosnia and Herzegovina, Brunei Darussalam, Congo, Cote d'Ivoire, Cuba, Egypt, the United Arab Emirates, Eritrea, Ethiopia, Gabon, Georgia, Guinea, Guinea-Bissau, Iran (Islamic Republic of), Iraq, Israel, Jordan, Lebanon, Malaysia, Mali, Mauritania, Moldova, Mongolia, Nigeria, Oman, Uzbekistan, Pakistan, the Philippines, Qatar, Syria, Kyrgyzstan, the Dem. Rep. of the Congo, Romania, the Russian Federation, Somalia, Tajikistan, Tunisia, Turkmenistan, Ukraine, Yemen and Yugoslavia, the band 2690-2700 MHz is also allocated to the fixed and mobile, except aeronautical mobile, services on a primary basis. Such use is limited to equipment in operation by 1 January 1985.

5.423 In the band 2700-2900 MHz, ground-based radars used for meteorological purposes are authorized to operate on a basis of equality with stations of the aeronautical radionavigation service.

5.424 Additional allocation: in Canada, the band 2850-2900 MHz is also allocated to the maritime radionavigation service, on a primary basis, for use by shore-based radars.

5.425 In the band 2900-3100 MHz, the use of the shipborne interrogator-transponder system (SIT) shall be confined to the sub-band 2930-2950 MHz.

5.426 The use of the band 2900-3100 MHz by the aeronautical radionavigation service is limited to ground-based radars.

5.427 In the bands 2900-3100 MHz and 9300-9500 MHz, the response from radar transponders shall not be capable of being confused with the response from radar beacons (racons) and shall not cause interference to ship or aeronautical radars in the radionavigation service, having regard, however, to No. 4.9.

5.428 Additional allocation: in Azerbaijan, Bulgaria, Cuba, Mongolia, Kyrgyzstan, Romania and Turkmenistan, the band 3100-3300 MHz is also allocated to the radionavigation service on a primary basis.

5.429 Additional allocation: in Saudi Arabia, Bahrain, Bangladesh, Brunei Darussalam, China, the Congo, Korea (Rep. of), the United Arab Emirates, India, Indonesia, Iran (Islamic Republic of), Iraq, Israel, Japan, Jordan, Kuwait, Lebanon, Libya, Malaysia, Oman, Pakistan, Qatar, Syria, Dem. People's Rep. of Korea and Yemen, the band 3300-3400 MHz is also allocated to the fixed and mobile services on a primary basis. The countries bordering the Mediterranean shall not claim protection for their fixed and mobile services from the radiolocation service.

5.430 Additional allocation: in Azerbaijan, Bulgaria, Cuba, Mongolia, Kyrgyzstan, Romania and Turkmenistan, the band 3300-3400 MHz is also allocated to the radionavigation service on a primary basis.

5.431 Additional allocation: in Germany, Israel, Nigeria and the United Kingdom, the band 3400-3475 MHz is also allocated to the amateur service on a secondary basis.

5.432 Different category of service: in Korea (Rep. of), Japan and Pakistan, the allocation of the band 3400-3500 MHz to the mobile, except aeronautical mobile, service is on a primary basis (see No. 5.33).

5.433 In Regions 2 and 3, in the band 3400-3600 MHz the radiolocation service is allocated on a primary basis. However, all administrations operating radiolocation systems in this band are urged to cease operations by 1985. Thereafter, administrations shall take all practicable steps to protect the fixed-satellite service and coordination requirements shall not be imposed on the fixed-satellite service.

5.435 In Japan, in the band 3620-3700 MHz, the radiolocation service is excluded.

5.438 Use of the band 4200-4400 MHz by the aeronautical radionavigation service is reserved exclusively for radio altimeters installed on board aircraft and for the associated transponders on the ground. However, passive sensing in the earth exploration-satellite and space research services may be authorized in this band on a secondary basis (no protection is provided by the radio altimeters).

5.439 Additional allocation: in Iran (Islamic Republic of) and Libya, the band 4200-4400 MHz is also allocated to the fixed service on a secondary basis.

5.440 The standard frequency and time signal-satellite service may be authorized to use the frequency 4202 MHz for space-to-Earth transmissions and the frequency 6427 MHz for Earth-to-space transmissions. Such transmissions shall be confined within the limits of ± 2 MHz of these frequencies, subject to agreement obtained under No. 9.21.

5.441 The use of the bands 4500-4800 MHz (space-to-Earth), 6725-7025 MHz (Earth-to-space) by the fixed-satellite service shall be in accordance with the provisions of Appendix 30B. The use of the bands 10.7-10.95 GHz (space-to-Earth), 11.2-11.45 GHz (space-to-Earth) and 12.75-13.25 GHz (Earth-to-space) by geostationary-satellite systems in the fixed-satellite service shall be in accordance with the provisions of Appendix 30B. The use of the bands 10.7-10.95 GHz (space-to Earth), 11.2-11.45 GHz (space-to-Earth) and 12.75-13.25 GHz (Earth-to-space) by a non-geostationary-satellite system in the fixed-satellite service is subject to application of the provisions of No. 9.12 for coordination with other non-geostationary-satellite systems in the fixed-satellite service. Non-geostationary-satellite systems in the fixed-satellite service shall not claim protection from geostationary-satellite networks in the fixed-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

5.442 In the bands 4825-4835 MHz and 4950-4990 MHz, the allocation to the mobile service is restricted to the mobile, except aeronautical mobile, service.

5.443 Different category of service: in Argentina, Australia and Canada, the allocation of the bands 4825-4835 MHz and 4950-4990 MHz to the radio astronomy service is on a primary basis (see No. 5.33).

5.443A Additional allocation: The band 5000-5010 MHz is also allocated to the radionavigation-satellite service (Earth-to-space) on a primary basis. See Resolution 603 (WRC-2000).

5.443B Additional allocation: The band 5010-5030 MHz is also allocated to the radionavigation-satellite service (space-to-Earth) (space-to-space) on a primary basis. In order not to cause harmful interference to the microwave landing system operating above 5030 MHz, the aggregate power flux-density produced at the Earth's surface in the band 5030-5150 MHz by all the space stations within any radionavigation-satellite service system (space-to-Earth) operating in the band 5010-5030 MHz shall not exceed “124.5 dB(W/m²) in a 150 kHz band. In order not to cause harmful interference to the radio astronomy service in the band 4990-5000 MHz, the aggregate power flux-density produced in the 4990-5000 MHz band by all the space stations within any radionavigation-satellite service (space-to-Earth) system operating in the 5010-5030 MHz band shall not exceed the provisional value of −171 dB(W/m²) in a 10 MHz band at any radio astronomy observatory site for more than 2% of the time. For the use of this band, Resolution 604 (WRC-2000) applies.

5.444 The band 5030-5150 MHz is to be used for the operation of the international standard system (microwave landing system) for precision approach and landing. The requirements of this system shall take precedence over other uses of this band. For the use of this band, No. 5.444A and Resolution 114 (WRC-95) apply.

5.444A Additional allocation: the band 5091-5150 MHz is also allocated to the fixed-satellite service (Earth-to-space) on a primary basis. This allocation is limited to feeder links of non-geostationary mobile-satellite systems and is subject to coordination under No. 9.11A.

In the band 5091-5150 MHz, the following conditions also apply:

—Prior to 1 January 2010, the use of the band 5091-5150 MHz by feeder links of non-geostationary-satellite systems in the mobile-satellite service shall be made in accordance with Resolution 114 (WRC-95);

—Prior to 1 January 2010, the requirements of existing and planned international standard systems for the aeronautical radionavigation service which cannot be met in the 5000-5091 MHz band, shall take precedence over other uses of this band;

—After 1 January 2008, no new assignments shall be made to stations providing feeder links of non-geostationary mobile-satellite systems;

—After 1 January 2010, the fixed-satellite service will become secondary to the aeronautical radionavigation service.

5.446 Additional allocation: in the countries listed in Nos. 5.369 and 5.400, the band 5150-5216 MHz is also allocated to the radiodetermination-satellite service (space-to-Earth) on a primary basis, subject to agreement obtained under No. 9.21. In Region 2, the band is also allocated to the radiodetermination-satellite service (space-to-Earth) on a primary basis. In Regions 1 and 3, except those countries listed in Nos. 5.369 and 5.400, the band is also allocated to the radiodetermination-satellite service (space-to-Earth) on a secondary basis. The use by the radiodetermination-satellite service is limited to feeder links in conjunction with the radiodetermination-satellite service operating in the bands 1610-1626.5 MHz and/or 2483.5-2500 MHz. The total power flux-density at the Earth's surface shall in no case exceed −159 dB(W/m²) in any 4 kHz band for all angles of arrival.

5.447 Additional allocation: in Germany, Austria, Belgium, Denmark, Spain, Estonia, Finland, France, Greece, Israel, Italy, Japan, Jordan, Lebanon, Liechtenstein, Lithuania, Luxembourg, Malta, Norway, Pakistan, the Netherlands, Portugal, Syria, the United Kingdom, Sweden, Switzerland and Tunisia, the band 5150-5250 MHz is also allocated to the mobile service, on a primary basis, subject to agreement obtained under No. 9.21.

5.447A The allocation to the fixed-satellite service (Earth-to-space) is limited to feeder links of non-geostationary-satellite systems in the mobile-satellite service and is subject to coordination under No. 9.11A.

5.447B Additional allocation: the band 5150-5216 MHz is also allocated to the fixed-satellite service (space-to-Earth) on a primary basis. This allocation is limited to feeder links of non-geostationary-satellite systems in the mobile-satellite service and is subject to provisions of No. 9.11A. The power flux-density at the Earth's surface produced by space stations of the fixed-satellite service operating in the space-to-Earth direction in the band 5150-5216 MHz shall in no case exceed −164 dB(W/m²) in any 4 kHz band for all angles of arrival.

5.447C Administrations responsible for fixed-satellite service networks in the band 5150-5250 MHz operated under Nos. 5.447A and 5.447B shall coordinate on an equal basis in accordance with No. 9.11A with administrations responsible for non-geostationary-satellite networks operated under No. 5.446 and brought into use prior to 17 November 1995. Satellite networks operated under No. 5.446 brought into use after 17 November 1995 shall not claim protection from, and shall not cause harmful interference to, stations of the fixed-satellite service operated under Nos. 5.447A and 5.447B.

5.447D The allocation of the band 5250-5255 MHz to the space research service on a primary basis is limited to active spaceborne sensors. Other uses of the band by the space research service are on a secondary basis.

5.448 Additional allocation: in Austria, Azerbaijan, Bulgaria, Libya, Mongolia, Kyrgyzstan, Slovakia, the Czech Rep., Romania and Turkmenistan, the band 5250-5350 MHz is also allocated to the radionavigation service on a primary basis.

5.448A The use of the frequency band 5250-5350 MHz by the earth exploration-satellite (active) and space research (active) services shall not constrain the future development and deployment of the radiolocation service.

5.448B The earth exploration-satellite (active) service operating in the band 5350-5460 MHz shall not cause harmful interference to, or constrain the use and development of, the aeronautical radionavigation service.

5.449 The use of the band 5350-5470 MHz by the aeronautical radionavigation service is limited to airborne radars and associated airborne beacons.

5.450 Additional allocation: in Austria, Azerbaijan, Bulgaria, Iran (Islamic Republic of), Mongolia, Kyrgyzstan, Slovakia, the Czech Rep., Romania, Turkmenistan and Ukraine, the band 5470-5650 MHz is also allocated to the aeronautical radionavigation service on a primary basis.

5.451 Additional allocation: in the United Kingdom, the band 5470-5850 MHz is also allocated to the land mobile service on a secondary basis. The power limits specified in Nos. 21.2, 21.3, 21.4 and 21.5 shall apply in the band 5725-5850 MHz.

5.452 Between 5600 MHz and 5650 MHz, ground-based radars used for meteorological purposes are authorized to operate on a basis of equality with stations of the maritime radionavigation service.

5.453 Additional allocation: in Saudi Arabia, Bahrain, Bangladesh, Brunei Darussalam, Cameroon, China, Congo, Korea (Rep. of), Egypt, the United Arab Emirates, Gabon, Guinea, India, Indonesia, Iran (Islamic Republic of), Iraq, Israel, Japan, Jordan, Kuwait, Lebanon, Libya, Madagascar, Malaysia, Nigeria, Oman, Pakistan, the Philippines, Qatar, Syria, the Dem. People's Rep. of Korea, Singapore, Swaziland, Tanzania, Chad and Yemen, the band 5650-5850 MHz is also allocated to the fixed and mobile services on a primary basis.

5.454 Different category of service: in Azerbaijan, Belarus, Georgia, Mongolia, Uzbekistan, Kyrgyzstan, the Russian Federation, Tajikistan, Turkmenistan and Ukraine, the allocation of the band 5670-5725 MHz to the space research service is on a primary basis (see No. 5.33).

5.455 Additional allocation: in Armenia, Azerbaijan, Belarus, Bulgaria, Cuba, Georgia, Hungary, Kazakstan, Latvia, Moldova, Mongolia, Uzbekistan, Poland, Kyrgyzstan, Slovakia, Russian Federation, Tajikistan, Turkmenistan and Ukraine, the band 5670-5850 MHz is also allocated to the fixed service on a primary basis.

5.456 Additional allocation: in Germany and in Cameroon, the band 5755-5850 MHz is also allocated to the fixed service on a primary basis.

5.458 In the band 6425-7075 MHz, passive microwave sensor measurements are carried out over the oceans. In the band 7075-7250 MHz, passive microwave sensor measurements are carried out. Administrations should bear in mind the needs of the Earth exploration-satellite (passive) and space research (passive) services in their future planning of the bands 6425-7025 MHz and 7075-7250 MHz.

5.458A In making assignments in the band 6700-7075 MHz to space stations of the fixed-satellite service, administrations are urged to take all practicable steps to protect spectral line observations of the radio astronomy service in the band 6650-6675.2 MHz from harmful interference from unwanted emissions.

5.458B The space-to-Earth allocation to the fixed-satellite service in the band 6700-7075 MHz is limited to feeder links for non-geostationary satellite systems of the mobile-satellite service and is subject to coordination under No. 9.11A. The use of the band 6700-7075 MHz (space-to-Earth) by feeder links for non-geostationary satellite systems in the mobile-satellite service is not subject to No. 22.2.

5.458C Administrations making submissions in the band 7025-7075 MHz (Earth-to-space) for geostationary-satellite systems in the fixed-satellite service after 17 November 1995 shall consult on the basis of relevant ITU-R Recommendations with the administrations that have notified and brought into use non-geostationary-satellite systems in this frequency band before 18 November 1995 upon request of the latter administrations. This consultation shall be with a view to facilitating shared operation of both geostationary-satellite systems in the fixed-satellite service and non-geostationary-satellite systems in this band.

5.459 Additional allocation: in Russian Federation, the frequency bands 7100-7155 MHz and 7190-7235 MHz are also allocated to the space operation service (Earth-to-space) on a primary basis, subject to agreement obtained under No. 9.21.

5.460 Additional allocation: the band 7145-7235 MHz is also allocated to the space research (Earth-to-space) service on a primary basis, subject to agreement obtained under No. 9.21. The use of the band 7145-7190 MHz is restricted to deep space; no emissions to deep space shall be effected in the band 7190-7235 MHz.

5.461 Additional allocation: the bands 7250-7375 MHz (space-to-Earth) and 7900-8025 MHz (Earth-to-space) are also allocated to the mobile-satellite service on a primary basis, subject to agreement obtained under No. 9.21.

5.461A The use of the band 7450-7550 MHz by the meteorological-satellite service (space-to-Earth) is limited to geostationary-satellite systems. Non-geostationary meteorological-satellite systems in this band notified before 30 November 1997 may continue to operate on a primary basis until the end of their lifetime.

5.461B The use of the band 7750-7850 MHz by the meteorological-satellite service (space-to-Earth) is limited to non-geostationary satellite systems.

5.462A In Regions 1 and 3 (except for Japan), in the band 8025-8400 MHz, the earth exploration-satellite service using geostationary satellites shall not produce a power flux-density in excess of the following provisional values for angles of arrival (θ), without the consent of the affected administration:

−174 dB(W/m2) in a 4 kHz band for 0≤ θ< 5°

−174 + 0.5 (θ − 5) dB(W/m²) in a 4 kHz band for 5≤ < 25°

−164 dB(W/m²) in a 4 kHz band for 25≤ θ ≤ 90°

These values are subject to study under Resolution 124 (WRC-97).⁶

⁶ Note by the Secretariat: This Resolution was revised by WRC-2000.

5.463 Aircraft stations are not permitted to transmit in the band 8025-8400 MHz.

5.465 In the space research service, the use of the band 8400-8450 MHz is limited to deep space.

5.466 Different category of service: in Israel, Malaysia, Singapore and Sri Lanka, the allocation of the band 8400-8500 MHz to the space research service is on a secondary basis (see No. 5.32).

5.467 Alternative allocation: in the United Kingdom, the band 8400-8500 MHz is allocated to the radiolocation and space research services on a primary basis.

5.468 Additional allocation: in Saudi Arabia, Bahrain, Bangladesh, Brunei Darussalam, Burundi, Cameroon, China, the Congo, Costa Rica, Egypt, the United Arab Emirates, Gabon, Guyana, Indonesia, Iran (Islamic Republic of), Iraq, Jamaica, Jordan, Kuwait, Lebanon, Libya, Malaysia, Mali, Morocco, Mauritania, Nepal, Nigeria, Oman, Pakistan, Qatar, Syria, Dem. People's Rep. of Korea, Senegal, Singapore, Somalia, Swaziland, Tanzania, Chad, Togo, Tunisia and Yemen, the band 8500-8750 MHz is also allocated to the fixed and mobile services on a primary basis.

5.469 Additional allocation: in Armenia, Azerbaijan, Belarus, Bulgaria, Georgia, Hungary, Lithuania, Moldova, Mongolia, Uzbekistan, Poland, Kyrgyzstan, Slovakia, the Czech Rep., Romania, the Russian Federation, Tajikistan, Turkmenistan and Ukraine, the band 8500-8750 MHz is also allocated to the land mobile and radionavigation services on a primary basis.

5.469A In the band 8550-8650 MHz, stations in the earth exploration-satellite service (active) and space research service (active) shall not cause harmful interference to, or constrain the use and development of, stations of the radiolocation service.

5.470 The use of the band 8750-8850 MHz by the aeronautical radionavigation service is limited to airborne Doppler navigation aids on a centre frequency of 8800 MHz.

5.471 Additional allocation: in Algeria, Germany, Bahrain, Belgium, China, the United Arab Emirates, France, Greece, Indonesia, Iran (Islamic Republic of), Libya, the Netherlands, Qatar and Sudan, the bands 8825-8850 MHz and 9000-9200 MHz are also allocated to the maritime radionavigation service, on a primary basis, for use by shore-based radars only.

5.472 In the bands 8850-9000 MHz and 9200-9225 MHz, the maritime radionavigation service is limited to shore-based radars.

5.473 Additional allocation: in Armenia, Austria, Azerbaijan, Belarus, Bulgaria, Cuba, Georgia, Hungary, Moldova, Mongolia, Uzbekistan, Poland, Kyrgyzstan, Slovakia, the Czech Rep., Romania, the Russian Federation, Tajikistan, Turkmenistan and Ukraine, the bands 8850-9000 MHz and 9200-9300 MHz are also allocated to the radionavigation service on a primary basis.

5.474 In the band 9200-9500 MHz, search and rescue transponders (SART) may be used, having due regard to the appropriate ITU-R Recommendation (see also Article 31).

5.475 The use of the band 9300-9500 MHz by the aeronautical radionavigation service is limited to airborne weather radars and ground-based radars. In addition, ground-based radar beacons in the aeronautical radionavigation service are permitted in the band 9300-9320 MHz on condition that harmful interference is not caused to the maritime radionavigation service. In the band 9300-9500 MHz, ground-based radars used for meteorological purposes have priority over other radiolocation devices.

5.476 In the band 9300-9320 MHz in the radionavigation service, the use of shipborne radars, other than those existing on 1 January 1976, is not permitted until 1 January 2001.

5.476A In the band 9500-9800 MHz, stations in the earth exploration-satellite service (active) and space research service (active) shall not cause harmful interference to, or constrain the use and development of, stations of the radionavigation and radiolocation services.

5.477 Different category of service: in Algeria, Saudi Arabia, Austria, Bahrain, Bangladesh, Brunei Darussalam, Cameroon, Egypt, the United Arab Emirates, Eritrea, Ethiopia, Guyana, India, Indonesia, Iran (Islamic Republic of), Iraq, Jamaica, Japan, Jordan, Kuwait, Lebanon, Liberia, Malaysia, Nigeria, Oman, Pakistan, Qatar, the Dem. People's Rep. of Korea, Singapore, Somalia, Sudan, Sweden, Trinidad and Tobago, and Yemen, the allocation of the band 9800-10000 MHz to the fixed service is on a primary basis (see No. 5.33).

5.478 Additional allocation: in Azerbaijan, Bulgaria, Mongolia, Kyrgyzstan, Slovakia, the Czech Rep., Romania, Turkmenistan and Ukraine, the band 9800-10000 MHz is also allocated to the radionavigation service on a primary basis.

5.479 The band 9975-10025 MHz is also allocated to the meteorological-satellite service on a secondary basis for use by weather radars.

5.480 Additional allocation: in Argentina, Brazil, Chile, Costa Rica, Cuba, El Salvador, Ecuador, Guatemala, Honduras, Mexico, Paraguay, Peru, Uruguay and Venezuela, the band 10-10.45 GHz is also allocated to the fixed and mobile services on a primary basis.

5.481 Additional allocation: in Germany, Angola, Brazil, China, Costa Rica, El Salvador, Ecuador, Spain, Guatemala, Japan, Morocco, Nigeria, Oman, Uzbekistan, Paraguay, Peru, the Dem. People's Rep. of Korea, Sweden, Tanzania, Thailand and Uruguay, the band 10.45-10.5 GHz is also allocated to the fixed and mobile services on a primary basis.

5.482 In the band 10.6-10.68 GHz, stations of the fixed and mobile, except aeronautical mobile, services shall be limited to a maximum equivalent isotropically radiated power of 40 dBW and the power delivered to the antenna shall not exceed −3 dBW. These limits may be exceeded subject to agreement obtained under No. 9.21. However, in Saudi Arabia, Armenia, Azerbaijan, Bahrain, Bangladesh, Belarus, China, the United Arab Emirates, Georgia, India, Indonesia, Iran (Islamic Republic of), Iraq, Japan, Kazakstan, Kuwait, Latvia, Lebanon, Moldova, Nigeria, Uzbekistan, Pakistan, the Philippines, Qatar, Syria, Kyrgyzstan, Russian Federation, Tajikistan, Turkmenistan and Ukraine, the restrictions on the fixed and mobile, except aeronautical mobile, services are not applicable.

5.483 Additional allocation: in Saudi Arabia, Armenia, Azerbaijan, Bahrain, Belarus, Bosnia and Herzegovina, China, Colombia, Korea (Rep. of), Costa Rica, Egypt, the United Arab Emirates, Georgia, Iran (Islamic Republic of), Iraq, Israel, Japan, Jordan, Kazakstan, Kuwait, Latvia, Lebanon, Moldova, Mongolia, Uzbekistan, Qatar, Kyrgyzstan, the Dem. People's Rep. of Korea, Romania, the Russian Federation, Tajikistan, Turkmenistan, Ukraine, Yemen and Yugoslavia, the band 10.68-10.7 GHz is also allocated to the fixed and mobile, except aeronautical mobile, services on a primary basis. Such use is limited to equipment in operation by 1 January 1985.

5.484 In Region 1, the use of the band 10.7-11.7 GHz by the fixed-satellite service (Earth-to-space) is limited to feeder links for the broadcasting-satellite service.

5.484A The use of the bands 10.95-11.2 GHz (space-to-Earth), 11.45-11.7 GHz (space-to-Earth), 11.7-12.2 GHz (space-to-Earth) in Region 2, 12.2-12.75 GHz (space-to-Earth) in Region 3, 12.5-12.75 GHz (space-to-Earth) in Region 1, 13.75-14.5 GHz (Earth-to-space), 17.8-18.6 GHz (space-to-Earth), 19.7-20.2 GHz (space-to-Earth), 27.5-28.6 GHz (Earth-to-space), 29.5-30 GHz (Earth-to-space) by a non-geostationary-satellite system in the fixed-satellite service is subject to application of the provisions of No. 9.12 for coordination with other non-geostationary-satellite systems in the fixed-satellite service. Non-geostationary-satellite systems in the fixed-satellite service shall not claim protection from geostationary-satellite networks in the fixed-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

5.485 In Region 2, in the band 11.7-12.2 GHz, transponders on space stations in the fixed-satellite service may be used additionally for transmissions in the broadcasting-satellite service, provided that such transmissions do not have a maximum e.i.r.p. greater than 53 dBW per television channel and do not cause greater interference or require more protection from interference than the coordinated fixed-satellite service frequency assignments. With respect to the space services, this band shall be used principally for the fixed-satellite service.

5.486 Different category of service: in Mexico and the United States, the allocation of the band 11.7-12.1 GHz to the fixed service is on a secondary basis (see No. 5.32).

5.487 In the band 11.7-12.5 GHz in Regions 1 and 3, the fixed, fixed-satellite, mobile, except aeronautical mobile, and broadcasting services, in accordance with their respective allocations, shall not cause harmful interference to, or claim protection from, broadcasting-satellite stations operating in accordance with the provisions of the Regions 1 and 3 Plan in Appendix 30.

5.487A Additional allocation: in Region 1, the band 11.7-12.5 GHz, in Region 2, the band 12.2-12.7 GHz and, in Region 3, the band 11.7-12.2 GHz, are also allocated to the fixed-satellite service (space-to-Earth) on a primary basis, limited to non-geostationary systems and subject to application of the provisions of No. 9.12 for coordination with other non-geostationary-satellite systems in the fixed-satellite service. Non-geostationary-satellite systems in the fixed-satellite service shall not claim protection from geostationary-satellite networks in the broadcasting-satellite service operating in accordance with the Radio Regulations, irrespective of the dates of receipt by the Bureau of the complete coordination or notification information, as appropriate, for the non-geostationary-satellite systems in the fixed-satellite service and of the complete coordination or notification information, as appropriate, for the geosationary-satellite networks, and No. 5.43A does not apply. Non-geostationary-satellite systems in the fixed-satellite service in the above bands shall be operated in such a way that any unacceptable interference that may occur during their operation shall be rapidly eliminated.

5.488 The use of the band 11.7-12.2 GHz by geostationary-satellite networks in the fixed-satellite service in Region 2 is subject to the provisions of Resolution 77 (WRC-2000). For the use of the band 12.2-12.7 GHz by the broadcasting-satellite service in Region 2, see Appendix 30.

5.489 Additional allocation: in Peru, the band 12.1-12.2 GHz is also allocated to the fixed service on a primary basis.

5.490 In Region 2, in the band 12.2-12.7 GHz, existing and future terrestrial radiocommunication services shall not cause harmful interference to the space services operating in conformity with the broadcasting-satellite Plan for Region 2 contained in Appendix 30.

5.491 Additional allocation: in Region 3, the band 12.2-12.5 GHz is also allocated to the fixed-satellite service (space-to-Earth) on a primary basis. The power flux-density limits in Table 21-4 of Article 21 shall apply to this frequency band. The introduction of the service in relation to the broadcasting-satellite service in Region 1 shall follow the procedures specified in Article 7 of Appendix 30, with the applicable frequency band extended to cover 12.2-12.5 GHz.

5.492 Assignments to stations of the broadcasting-satellite service which are in conformity with the appropriate regional Plan or included in the Regions 1 and 3 List in Appendix 30 may also be used for transmissions in the fixed-satellite service (space-to-Earth), provided that such transmissions do not cause more interference, or require more protection from interference, than the broadcasting-satellite service transmissions operating in conformity with the Plan or the List, as appropriate.

5.493 The broadcasting-satellite service in the band 12.5-12.75 GHz in Region 3 is limited to a power flux-density not exceeding −111 dB(W/(m² · 27 MHz)) for all conditions and for all methods of modulation at the edge of the service area.

5.494 Additional allocation: in Algeria, Angola, Saudi Arabia, Bahrain, Cameroon, the Central African Rep., the Congo, Côte d'Ivoire, Egypt, the United Arab Emirates, Eritrea, Ethiopia, Gabon, Ghana, Guinea, Iraq, Israel, Jordan, Kuwait, Lebanon, Libya, Madagascar, Mali, Morocco, Mongolia, Nigeria, Qatar, Dem. Rep. of the Congo, Syria, Senegal, Somalia, Sudan, Chad, Togo and Yemen, the band 12.5-12.75 GHz is also allocated to the fixed and mobile, except aeronautical mobile, services on a primary basis.

5.495 Additional allocation: in Bosnia and Herzegovina, Croatia, Denmark, France, Greece, Liechtenstein, Monaco, Uganda, Portugal, Romania, Slovenia, Switzerland, Tanzania, Tunisia and Yugoslavia, the band 12.5-12.75 GHz is also allocated to the fixed and mobile, except aeronautical mobile, services on a secondary basis.

5.496 Additional allocation: in Austria, Azerbaijan, Kyrgyzstan and Turkmenistan, the band 12.5-12.75 GHz is also allocated to the fixed service and the mobile, except aeronautical mobile, service on a primary basis. However, stations in these services shall not cause harmful interference to fixed-satellite service earth stations of countries in Region 1 other than those listed in this footnote. Coordination of these earth stations is not required with stations of the fixed and mobile services of the countries listed in this footnote. The power flux-density limit at the Earth's surface given in Table 21-4 of Article 21, for the fixed-satellite service shall apply on the territory of the countries listed in this footnote.

5.497 The use of the band 13.25-13.4 GHz by the aeronautical radionavigation service is limited to Doppler navigation aids.

5.498A The Earth exploration-satellite (active) and space research (active) services operating in the band 13.25-13.4 GHz shall not cause harmful interference to, or constrain the use and development of, the aeronautical radionavigation service.

5.499 Additional allocation: in Bangladesh, India and Pakistan, the band 13.25-14 GHz is also allocated to the fixed service on a primary basis.

5.500 Additional allocation: in Algeria, Angola, Saudi Arabia, Bahrain, Brunei Darussalam, Cameroon, Egypt, the United Arab Emirates, Gabon, Indonesia, Iran (Islamic Republic of), Iraq, Israel, Jordan, Kuwait, Lebanon, Madagascar, Malaysia, Mali, Malta, Morocco, Mauritania, Nigeria, Pakistan, Qatar, Syria, Senegal, Singapore, Sudan, Chad and Tunisia, the band 13.4-14 GHz is also allocated to the fixed and mobile services on a primary basis.

5.501 Additional allocation: in Austria, Azerbaijan, Hungary, Japan, Mongolia, Kyrgyzstan, Romania, the United Kingdom and Turkmenistan, the band 13.4-14 GHz is also allocated to the radionavigation service on a primary basis.

5.501A The allocation of the band 13.4-13.75 GHz to the space research service on a primary basis is limited to active spaceborne sensors. Other uses of the band by the space research service are on a secondary basis.

5.501B In the band 13.4-13.75 GHz, the Earth exploration-satellite (active) and space research (active) services shall not cause harmful interference to, or constrain the use and development of, the radiolocation service.

5.502 In the band 13.75-14 GHz, an earth station in the fixed-satellite service shall have a minimum antenna diameter of 4.5 m and the e.i.r.p. of any emission should be at least 68 dBW and should not exceed 85 dBW. In addition the e.i.r.p., averaged over one second, radiated by a station in the radiolocation or radionavigation services shall not exceed 59 dBW. The protection of assignments to receiving space stations in the fixed-satellite service operating with earth stations that, individually, have an e.i.r.p. of less than 68 dBW shall not impose constraints on the operation of the radiolocation and radionavigation stations operating in accordance with the Radio Regulations. No. 5.43A does not apply. See Resolution 733 (WRC-2000).

5.503 In the band 13.75-14 GHz, geostationary space stations in the space research service for which information for advance publication has been received by the Bureau prior to 31 January 1992 shall operate on an equal basis with stations in the fixed-satellite service; after that date, new geostationary space stations in the space research service will operate on a secondary basis. Until those geostationary space stations in the space research service for which information for advance publication has been received by the Bureau prior to 31 January 1992 cease to operate in this band:

—The e.i.r.p. density of emissions from any earth station in the fixed-satellite service operating with a space station in geostationary-satellite orbit shall not exceed 71 dBW in the 6 MHz band from 13.772 to 13.778 GHz;

—The e.i.r.p. density of emissions from any earth station in the fixed-satellite service operating with a space station in non-geostationary-satellite orbit shall not exceed 51 dBW in the 6 MHz band from 13.772 to 13.778 GHz.

Automatic power control may be used to increase the e.i.r.p. density in the 6 MHz band in this frequency range to compensate for rain attenuation, to the extent that the power flux-density at the fixed-satellite service space station does not exceed the value resulting from use by an earth station of an e.i.r.p. of 71 dBW or 51 dBW, as appropriate, in the 6 MHz band in clear-sky conditions.

5.503A Until 1 January 2000, stations in the fixed-satellite service shall not cause harmful interference to non-geostationary space stations in the space research and Earth exploration-satellite services. After that date, these non-geostationary space stations will operate on a secondary basis in relation to the fixed-satellite service. Additionally, when planning earth stations in the fixed-satellite service to be brought into service between 1 January 2000 and 1 January 2001, in order to accommodate the needs of spaceborne precipitation radars operating in the band 13.793-13.805 GHz, advantage should be taken of the consultation process and the information given in Recommendation ITU-R SA.1071.

5.504 The use of the band 14-14.3 GHz by the radionavigation service shall be such as to provide sufficient protection to space stations of the fixed-satellite service.

5.505 Additional allocation: in Algeria, Angola, Saudi Arabia, Bahrain, Bangladesh, Botswana, Brunei Darussalam, Cameroon, China, Congo, Korea (Rep. of), Egypt, the United Arab Emirates, Gabon, Guatemala, Guinea, India, Indonesia, Iran (Islamic Republic of), Iraq, Israel, Japan, Jordan, Kuwait, Lesotho, Lebanon, Malaysia, Mali, Morocco, Mauritania, Oman, Pakistan, the Philippines, Qatar, Syria, the Dem. People's Rep. of Korea, Senegal, Singapore, Somalia, Sudan, Swaziland, Tanzania, Chad and Yemen, the band 14-14.3 GHz is also allocated to the fixed service on a primary basis.

5.506 The band 14-14.5 GHz may be used, within the fixed-satellite service (Earth-to-space), for feeder links for the broadcasting-satellite service, subject to coordination with other networks in the fixed-satellite service. Such use of feeder links is reserved for countries outside Europe.

5.508 Additional allocation: in Germany, Bosnia and Herzegovina, France, Greece, Ireland, Iceland, Italy, The Former Yugoslav Republic of Macedonia, Libya, Liechtenstein, Portugal, the United Kingdom, Slovenia, Switzerland and Yugoslavia, the band 14.25-14.3 GHz is also allocated to the fixed service on a primary basis.

5.509 Additional allocation: in Japan the band 14.25-14.3 GHz is also allocated to the mobile, except aeronautical mobile, service on a primary basis.

5.510 The use of the band 14.5-14.8 GHz by the fixed-satellite service (Earth-to-space) is limited to feeder links for the broadcasting-satellite service. This use is reserved for countries outside Europe.

5.511 Additional allocation: in Saudi Arabia, Bahrain, Bosnia and Herzegovina, Cameroon, Egypt, the United Arab Emirates, Guinea, Iran (Islamic Republic of), Iraq, Israel, Kuwait, Lebanon, Libya, Pakistan, Qatar, Syria, Slovenia, Somalia and Yugoslavia, the band 15.35-15.4 GHz is also allocated to the fixed and mobile services on a secondary basis.

5.511A The band 15.43-15.63 GHz is also allocated to the fixed-satellite service (space-to-Earth) on a primary basis. Use of the band 15.43-15.63 GHz by the fixed-satellite service (space-to-Earth and Earth-to-space) is limited to feeder links of non-geostationary systems in the mobile-satellite service, subject to coordination under No. 9.11A. The use of the frequency band 15.43-15.63 GHz by the fixed-satellite service (space-to-Earth) is limited to feeder links of non-geostationary systems in the mobile-satellite service for which advance publication information has been received by the Bureau prior to 2 June 2000. In the space-to-Earth direction, the minimum earth station elevation angle above and gain towards the local horizontal plane and the minimum coordination distances to protect an earth station from harmful interference shall be in accordance with Recommendation ITU-R S.1341. In order to protect the radio astronomy service in the band 15.35-15.4 GHz, the aggregate power flux-density radiated in the 15.35-15.4 GHz band by all the space stations within any feeder-link of a non-geostationary system in the mobile-satellite service (space-to-Earth) operating in the 15.43-15.63 GHz band shall not exceed the level of -156 dB(W/m2) in a 50 MHz bandwidth, into any radio astronomy observatory site for more than 2% of the time.

5.511C Stations operating in the aeronautical radionavigation service shall limit the effective e.i.r.p. in accordance with Recommendation ITU-R S.1340. The minimum coordination distance required to protect the aeronautical radionavigation stations (No. 4.10 applies) from harmful interference from feeder-link earth stations and the maximum e.i.r.p. transmitted towards the local horizontal plane by a feeder-link earth station shall be in accordance with Recommendation ITU-R S.1340.

5.511D Fixed-satellite service systems for which complete information for advance publication has been received by the Bureau by 21 November 1997 may operate in the bands 15.4-15.43 GHz and 15.63-15.7 GHz in the space-to-Earth direction and 15.63-15.65 GHz in the Earth-to-space direction. In the bands 15.4-15.43 GHz and 15.65-15.7 GHz, emissions from a non-geostationary space station shall not exceed the power flux-density limits at the Earth's surface of −146 dB(W/(m² · MHz)) for any angle of arrival. In the band 15.63-15.65 GHz, where an administration plans emissions from a non-geostationary space station that exceed −146 dB(W/(m² · MHz)) for any angle of arrival, it shall coordinate under No. 9.11A with the affected administrations. Stations in the fixed-satellite service operating in the band 15.63-15.65 GHz in the Earth-to-space direction shall not cause harmful interference to stations in the aeronautical radionavigation service (No. 4.10 applies).

5.512 Additional allocation: in Algeria, Angola, Saudi Arabia, Austria, Bahrain, Bangladesh, Bosnia and Herzegovina, Brunei Darussalam, Cameroon, the Congo, Costa Rica, Egypt, El Salvador, the United Arab Emirates, Finland, Guatemala, India, Indonesia, Iran (Islamic Republic of), Jordan, Kuwait, Libya, Malaysia, Morocco, Mozambique, Nepal, Nicaragua, Oman, Pakistan, Qatar, Singapore, Slovenia, Somalia, Sudan, Swaziland, Tanzania, Chad, Yemen and Yugoslavia, the band 15.7-17.3 GHz is also allocated to the fixed and mobile services on a primary basis.

5.513 Additional allocation: in Israel, the band 15.7-17.3 GHz is also allocated to the fixed and mobile services on a primary basis. These services shall not claim protection from or cause harmful interference to services operating in accordance with the Table in countries other than those included in No. 5.512.

5.513A Spaceborne active sensors operating in the band 17.2-17.3 GHz shall not cause harmful interference to, or constrain the development of, the radiolocation and other services allocated on a primary basis.

5.514 Additional allocation: in Algeria, Germany, Angola, Saudi Arabia, Austria, Bahrain, Bangladesh, Bosnia and Herzegovina, Cameroon, Costa Rica, El Salvador, the United Arab Emirates, Finland, Guatemala, Honduras, India, Iran (Islamic Republic of), Iraq, Israel, Japan, Jordan, Kuwait, Libya, Nepal, Nicaragua, Oman, Pakistan, Qatar, Slovenia, Sudan and Yugoslavia, the band 17.3-17.7 GHz is also allocated to the fixed and mobile services on a secondary basis. The power limits given in Nos. 21.3 and 21.5 shall apply.

5.515 In the band 17.3-17.8 GHz, sharing between the fixed-satellite service (Earth-to-space) and the broadcasting-satellite service shall also be in accordance with the provisions of § 1 of Annex 4 of Appendix 30A.

5.516 The use of the band 17.3-18.1 GHz by geostationary-satellite systems in the fixed-satellite service (Earth-to-space) is limited to feeder links for the broadcasting-satellite service. The use of the band 17.3-17.8 GHz in Region 2 by systems in the fixed-satellite service (Earth-to-space) is limited to geostationary satellites. For the use of the band 17.3-17.8 GHz in Region 2 by feeder links for the broadcasting-satellite service in the band 12.2-12.7 GHz, see Article 11. The use of the bands 17.3-18.1 GHz (Earth-to-space) in Regions 1 and 3 and 17.8-18.1 GHz (Earth-to-space) in Region 2 by non-geostationary-satellite systems in the fixed-satellite service is subject to application of the provisions of No. 9.12 for coordination with other non-geostationary-satellite systems in the fixed-satellite service. Non-geostationary-satellite systems in the fixed-satellite service shall not claim protection from geostationary-satellite networks in the fixed-satellite service operating in accordance with the Radio Regulations, irrespective of the dates of receipt by the Bureau of the complete coordination or notification information, as appropriate, for the non-geostationary-satellite systems in the fixed-satellite service and of the complete coordination or notification information, as appropriate, for the geostationary-satellite networks, and No. 5.43A does not apply. Non-geostationary-satellite systems in the fixed-satellite service in the above bands shall be operated in such a way that any unacceptable interference that may occur during their operation shall be rapidly eliminated.

5.517 In Region 2, the allocation to the broadcasting-satellite service in the band 17.3-17.8 GHz shall come into effect on 1 April 2007. After that date, use of the fixed-satellite (space-to-Earth) service in the band 17.7-17.8 GHz shall not claim protection from and shall not cause harmful interference to operating systems in the broadcasting-satellite service.

5.518 Different category of service: in Region 2, the allocation of the band 17.7-17.8 GHz to the mobile service is on a primary basis until 31 March 2007.

5.519 Additional allocation: the band 18.1-18.3 GHz is also allocated to the meteorological-satellite service (space-to-Earth) on a primary basis. Its use is limited to geostationary satellites and shall be in accordance with the provisions of Article 21, Table 21-4.

5.520 The use of the band 18.1-18.4 GHz by the fixed-satellite service (Earth-to-space) is limited to feeder links of geostationary-satellite systems in the broadcasting-satellite service.

5.521 Alternative allocation: in Germany, Denmark, the United Arab Emirates, Greece and Slovakia, the band 18.1-18.4 GHz is allocated to the fixed, fixed-satellite (space-to-Earth) and mobile services on a primary basis (see No. 5.33). The provisions of No. 5.519 also apply.

5.522A The emissions of the fixed service and the fixed-satellite service in the band 18.6-18.8 GHz are limited to the values given in Nos. 21.5A and 21.16.2, respectively.

5.522B The use of the band 18.6-18.8 GHz by the fixed-satellite service is limited to geostationary systems and systems with an orbit of apogee greater than 20 000 km.

5.522C In the band 18.6-18.8 GHz, in Algeria, Saudi Arabia, Bahrain, Egypt, the United Arab Emirates, Jordan, Lebanon, Libya, Morocco, Oman, Qatar, Syria, Tunisia and Yemen, fixed-service systems in operation at the date of entry into force of the Final Acts of WRC-2000 are not subject to the limits of No. 21.5A.

5.523A The use of the bands 18.8-19.3 GHz (space-to-Earth) and 28.6-29.1 GHz (Earth-to-space) by geostationary and non-geostationary fixed-satellite service networks is subject to the application of the provisions of No. 9.11A and No. 22.2 does not apply. Administrations having geostationary-satellite networks under coordination prior to 18 November 1995 shall cooperate to the maximum extent possible to coordinate pursuant to No. 9.11A with non-geostationary-satellite networks for which notification information has been received by the Bureau prior to that date, with a view to reaching results acceptable to all the parties concerned. Non-geostationary-satellite networks shall not cause unacceptable interference to geostationary fixed-satellite service networks for which complete Appendix 4 notification information is considered as having been received by the Bureau prior to 18 November 1995.

5.523B The use of the band 19.3-19.6 GHz (Earth-to-space) by the fixed-satellite service is limited to feeder links for non-geostationary-satellite systems in the mobile-satellite service. Such use is subject to the application of the provisions of No. 9.11A, and No. 22.2 does not apply.

5.523C No. 22.2 shall continue to apply in the bands 19.3-19.6 GHz and 29.1-29.4 GHz, between feeder links of non-geostationary mobile-satellite service networks and those fixed-satellite service networks for which complete Appendix 4 coordination information, or notification information, is considered as having been received by the Bureau prior to 18 November 1995.

5.523D The use of the band 19.3-19.7 GHz (space-to-Earth) by geostationary fixed-satellite service systems and by feeder links for non-geostationary-satellite systems in the mobile-satellite service is subject to the application of the provisions of No. 9.11A, but not subject to the provisions of No. 22.2. The use of this band for other non-geostationary fixed-satellite service systems, or for the cases indicated in Nos. 5.523C and 5.523E, is not subject to the provisions of No. 9.11A and shall continue to be subject to Articles 9 (except No. 9.11A) and 11 procedures, and to the provisions of No. 22.2.

5.523E No. 22.2 shall continue to apply in the bands 19.6-19.7 GHz and 29.4-29.5 GHz, between feeder links of non-geostationary mobile-satellite service networks and those fixed-satellite service networks for which complete Appendix 4 coordination information, or notification information, is considered as having been received by the Bureau by 21 November 1997.

5.524 Additional allocation: in Afghanistan, Algeria, Angola, Saudi Arabia, Bahrain, Bangladesh, Brunei Darussalam, Cameroon, China, the Congo, Costa Rica, Egypt, the United Arab Emirates, Gabon, Guatemala, Guinea, India, Iran (Islamic Republic of), Iraq, Israel, Japan, Jordan, Kuwait, Lebanon, Malaysia, Mali, Morocco, Mauritania, Nepal, Nigeria, Oman, Pakistan, the Philippines, Qatar, the Dem. Rep. of the Congo, Syria, the Dem. People's Rep. of Korea, Singapore, Somalia, Sudan, Tanzania, Chad, Togo and Tunisia, the band 19.7-21.2 GHz is also allocated to the fixed and mobile services on a primary basis. This additional use shall not impose any limitation on the power flux-density of space stations in the fixed-satellite service in the band 19.7-21.2 GHz and of space stations in the mobile-satellite service in the band 19.7-20.2 GHz where the allocation to the mobile-satellite service is on a primary basis in the latter band.

5.525 In order to facilitate interregional coordination between networks in the mobile-satellite and fixed-satellite services, carriers in the mobile-satellite service that are most susceptible to interference shall, to the extent practicable, be located in the higher parts of the bands 19.7-20.2 GHz and 29.5-30 GHz.

5.526 In the bands 19.7-20.2 GHz and 29.5-30 GHz in Region 2, and in the bands 20.1-20.2 GHz and 29.9-30 GHz in Regions 1 and 3, networks which are both in the fixed-satellite service and in the mobile-satellite service may include links between earth stations at specified or unspecified points or while in motion, through one or more satellites for point-to-point and point-to-multipoint communications.

5.527 In the bands 19.7-20.2 GHz and 29.5-30 GHz, the provisions of No. 4.10 do not apply with respect to the mobile-satellite service.

5.528 The allocation to the mobile-satellite service is intended for use by networks which use narrow spot-beam antennas and other advanced technology at the space stations. Administrations operating systems in the mobile-satellite service in the band 19.7-20.1 GHz in Region 2 and in the band 20.1-20.2 GHz shall take all practicable steps to ensure the continued availability of these bands for administrations operating fixed and mobile systems in accordance with the provisions of No. 5.524.

5.529 The use of the bands 19.7-20.1 GHz and 29.5-29.9 GHz by the mobile-satellite service in Region 2 is limited to satellite networks which are both in the fixed-satellite service and in the mobile-satellite service as described in No. 5.526.

5.530 In Regions 1 and 3, the allocation to the broadcasting-satellite service in the band 21.4-22 GHz shall come into effect on 1 April 2007. The use of this band by the broadcasting-satellite service after that date and on an interim basis prior to that date is subject to the provisions of Resolution 525 (WARC-92).

5.531 Additional allocation: in Japan, the band 21.4-22 GHz is also allocated to the broadcasting service on a primary basis.

5.532 The use of the band 22.21-22.5 GHz by the Earth exploration-satellite (passive) and space research (passive) services shall not impose constraints upon the fixed and mobile, except aeronautical mobile, services.

5.533 The inter-satellite service shall not claim protection from harmful interference from airport surface detection equipment stations of the radionavigation service.

5.534 Additional allocation: in Japan, the band 24.65-25.25 GHz is also allocated to the radionavigation service on a primary basis until 2008.

5.535 In the band 24.75-25.25 GHz, feeder links to stations of the broadcasting-satellite service shall have priority over other uses in the fixed-satellite service (Earth-to-space). Such other uses shall protect and shall not claim protection from existing and future operating feeder-link networks to such broadcasting satellite stations.

5.535A The use of the band 29.1-29.5 GHz (Earth-to-space) by the fixed-satellite service is limited to geostationary-satellite systems and feeder links to non-geostationary-satellite systems in the mobile-satellite service. Such use is subject to the application of the provisions of No. 9.11A, but not subject to the provisions of No. 22.2, except as indicated in Nos. 5.523C and 5.523E where such use is not subject to the provisions of No. 9.11A and shall continue to be subject to Articles 9 (except No. 9.11A) and 11 procedures, and to the provisions of No. 22.2.

5.536 Use of the 25.25-27.5 GHz band by the inter-satellite service is limited to space research and Earth exploration-satellite applications, and also transmissions of data originating from industrial and medical activities in space.

5.536A Administrations installing Earth exploration-satellite service earth stations cannot claim protection from stations in the fixed and mobile services operated by neighbouring administrations. In addition, earth stations operating in the Earth exploration-satellite service should take into account Recommendation ITU-R SA.1278.

5.536B In Germany, Saudi Arabia, Austria, Belgium, Brazil, Bulgaria, China, Korea (Rep. of), Denmark, Egypt, United Arab Emirates, Spain, Estonia, Finland, France, Hungary, India, Iran (Islamic Republic of), Ireland, Israel, Italy, Jordan, Kenya, Kuwait, Lebanon, Libya, Liechtenstein, Lithuania, Moldova, Norway, Oman, Uganda, Pakistan, the Philippines, Poland, Portugal, Syria, Slovakia, the Czech Rep., Romania, the United Kingdom, Singapore, Sweden, Switzerland, Tanzania, Turkey, Viet Nam and Zimbabwe, earth stations operating in the Earth exploration-satellite service in the band 25.5-27 GHz shall not claim protection from, or constrain the use and deployment of, stations of the fixed and mobile services.

5.537 Space services using non-geostationary satellites operating in the inter-satellite service in the band 27-27.5 GHz are exempt from the provisions of No. 22.2.

5.537A In Bhutan, Indonesia, Iran (Islamic Republic of), Japan, Maldives, Mongolia, Myanmar, Pakistan, the Dem. People's Rep. of Korea, Sri Lanka, Thailand and Viet Nam, the allocation to the fixed service in the band 27.5-28.35 GHz may also be used by high altitude platform stations (HAPS). The use of the band 27.5-28.35 GHz by HAPS is limited to operation in the HAPS-to-ground direction and shall not cause harmful interference to, nor claim protection from, other types of fixed-service systems or other co-primary services.

5.538 Additional allocation: the bands 27.500-27.501 GHz and 29.999-30.000 GHz are also allocated to the fixed-satellite service (space-to-Earth) on a primary basis for the beacon transmissions intended for up-link power control. Such space-to-Earth transmissions shall not exceed an equivalent isotropically radiated power (e.i.r.p.) of 10 dBW in the direction of adjacent satellites on the geostationary-satellite orbit. In the band 27.500-27.501 GHz, such space-to-Earth transmissions shall not produce a power flux-density in excess of the values specified in Article 21, Table 21-4 on the Earth's surface.

5.539 The band 27.5-30 GHz may be used by the fixed-satellite service (Earth-to-space) for the provision of feeder links for the broadcasting-satellite service.

5.540 Additional allocation: the band 27.501-29.999 GHz is also allocated to the fixed-satellite service (space-to-Earth) on a secondary basis for beacon transmissions intended for up-link power control.

5.541 In the band 28.5-30 GHz, the earth exploration-satellite service is limited to the transfer of data between stations and not to the primary collection of information by means of active or passive sensors.

5.541A Feeder links of non-geostationary networks in the mobile-satellite service and geostationary networks in the fixed-satellite service operating in the band 29.1-29.5 GHz (Earth-to-space) shall employ uplink adaptive power control or other methods of fade compensation, such that the earth station transmissions shall be conducted at the power level required to meet the desired link performance while reducing the level of mutual interference between both networks. These methods shall apply to networks for which Appendix 4 coordination information is considered as having been received by the Bureau after 17 May 1996 and until they are changed by a future competent world radiocommunication conference. Administrations submitting Appendix 4 information for coordination before this date are encouraged to utilize these techniques to the extent practicable.

5.542 Additional allocation: in Algeria, Saudi Arabia, Bahrain, Bangladesh, Brunei Darussalam, Cameroon, China, Congo, Egypt, the United Arab Emirates, Eritrea, Ethiopia, Guinea, India, Iran (Islamic Republic of), Iraq, Japan, Jordan, Kuwait, Lebanon, Malaysia, Mali, Morocco, Mauritania, Nepal, Pakistan, the Philippines, Qatar, Syria, the Dem. People's Rep. of Korea, Somalia, Sudan, Sri Lanka and Chad, the band 29.5-31 GHz is also allocated to the fixed and mobile services on a secondary basis. The power limits specified in Nos. 21.3 and 21.5 shall apply.

5.543 The band 29.95-30 GHz may be used for space-to-space links in the Earth exploration-satellite service for telemetry, tracking, and control purposes, on a secondary basis.

5.543A In Bhutan, Indonesia, Iran (Islamic Republic of), Japan, Maldives, Mongolia, Myanmar, Pakistan, the Dem. People's Rep. of Korea, Sri Lanka, Thailand and Viet Nam, the allocation to the fixed service in the band 31-31.3 GHz may also be used by high altitude platform stations (HAPS) in the ground-to-HAPS direction. The use of the band 31-31.3 GHz by systems using HAPS shall not cause harmful interference to, nor claim protection from, other types of fixed-service systems or other co-primary services, taking into account No. 5.545. The use of HAPS in the band 31-31.3 GHz shall not cause harmful interference to the passive services having a primary allocation in the band 31.3-31.8 GHz, taking into account the interference criteria given in Recommendations ITU-R SA.1029 and ITU-R RA.769. The administrations of the countries listed above are urged to limit the deployment of HAPS in the band 31-31.3 GHz to the lower half of this band (31-31.15 GHz) until WRC-03.

5.544 In the band 31-31.3 GHz the power flux-density limits specified in Article 21, Table 21-4 shall apply to the space research service.

5.545 Different category of service: in Armenia, Azerbaijan, Belarus, Georgia, Mongolia, Kyrgyzstan, the Russian Federation, Tajikistan, Turkmenistan and Ukraine, the allocation of the band 31-31.3 GHz to the space research service is on a primary basis (see No. 5.33).

5.546 Different category of service: in Saudi Arabia, Armenia, Azerbaijan, Belarus, Egypt, the United Arab Emirates, Spain, Estonia, Finland, Georgia, Hungary, Iran (Islamic Republic of), Israel, Jordan, Latvia, Lebanon, Moldova, Mongolia, Uzbekistan, Poland, Syria, Kyrgyzstan, Romania, the United Kingdom, the Russian Federation, Tajikistan, Turkmenistan, Turkey and Ukraine, the allocation of the band 31.5-31.8 GHz to the fixed and mobile, except aeronautical mobile, services is on a primary basis (see No. 5.33).

5.547 The bands 31.8-33.4 GHz, 37-40 GHz, 40.5-43.5 GHz, 51.4-52.6 GHz, 55.78-59 GHz and 64-66 GHz are available for high-density applications in the fixed service (see Resolutions 75 (WRC-2000) and 79 (WRC-2000)). Administrations should take this into account when considering regulatory provisions in relation to these bands. Because of the potential deployment of high-density applications in the fixed-satellite service in the bands 39.5-40 GHz and 40.5-42 GHz, administrations should further take into account potential constraints to high-density applications in the fixed service, as appropriate (see Resolution 84 (WRC-2000)).

5.547A Administrations should take practical measures to minimize the potential interference between stations in the fixed service and airborne stations in the radionavigation service in the 31.8-33.4 GHz band, taking into account the operational needs of the airborne radar systems.

5.547B Alternative allocation: in the United States, the band 31.8-32 GHz is allocated to the radionavigation and space research (deep space) (space-to-Earth) services on a primary basis.

5.547C Alternative allocation: in the United States, the band 32-32.3 GHz is allocated to the inter-satellite, radionavigation and space research (deep space) (space-to-Earth) services on a primary basis.

5.547D Alternative allocation: in the United States, the band 32.3-33 GHz is allocated to the inter-satellite and radionavigation services on a primary basis.

5.547E Alternative allocation: in the United States, the band 33-33.4 GHz is allocated to the radionavigation service on a primary basis.

5.548 In designing systems for the inter-satellite and radionavigation services in the band 32-33 GHz, and for the space research service (deep space) in the band 31.8-32.3 GHz, administrations shall take all necessary measures to prevent harmful interference between these services, bearing in mind the safety aspects of the radionavigation service (see Recommendation 707).

5.549 Additional allocation: in Saudi Arabia, Bahrain, Bangladesh, Egypt, the United Arab Emirates, Gabon, Indonesia, Iran (Islamic Republic of), Iraq, Israel, Jordan, Kuwait, Lebanon, Libya, Malaysia, Mali, Malta, Morocco, Mauritania, Nepal, Nigeria, Oman, Pakistan, the Philippines, Qatar, Dem. Rep. of the Congo, Syria, Senegal, Singapore, Somalia, Sudan, Sri Lanka, Togo, Tunisia and Yemen, the band 33.4-36 GHz is also allocated to the fixed and mobile services on a primary basis.

5.550 Different category of service: in Armenia, Azerbaijan, Belarus, Georgia, Mongolia, Uzbekistan, Kyrgyzstan, the Russian Federation, Tajikistan, Turkmenistan and Ukraine, the allocation of the band 34.7-35.2 GHz to the space research service is on a primary basis (see No. 5.33).

5.551 Radars located on spacecraft may be operated on a primary basis in the band 35.5-35.6 GHz. (SUP—WRC-97)

5.551A In the band 35.5-36.0 GHz, active spaceborne sensors in the earth exploration-satellite and space research services shall not cause harmful interference to, claim protection from, or otherwise impose constraints on operation or development of the radiolocation service, the meteorological aids service and other services allocated on a primary basis.

5.551AA In the bands 37.5-40 GHz and 42-42.5 GHz, non-geostationary-satellite systems in the fixed-satellite service should employ power control or other methods of downlink fade compensation of the order of 10 dB, such that the satellite transmissions are at power levels required to meet the desired link performance while reducing the level of interference to the fixed service. The use of downlink fade compensation methods are under study by the ITU-R (see Resolution 84 (WRC-2000)).

5.551F Different category of service: in Japan, the allocation of the band 41.5-42.5 GHz to the mobile service is on a primary basis (see No. 5.33).

5.551G In order to protect the radio astronomy service in the band 42.5-43.5 GHz, the aggregate power flux-density in the 42.5-43.5 GHz band produced by all the space stations in any non-geostationary-satellite system in the fixed-satellite service (space-to-Earth) or in the broadcasting-satellite service (space-to-Earth) system operating in the 41.5-42.5 GHz band shall not exceed—167 dB(W/m²) in any 1 MHz band at the site of a radio astronomy station for more that 2% of the time. The power flux-density in the band 42.5-43.5 GHz produced by any geostationary station in the fixed-satellite service (space-to-Earth) or in the broadcasting-satellite service (space-to-Earth) operating in the band 42-42.5 GHz shall not exceed—167 dB(W/m²) in any 1 MHz band at the site of a radio astronomy station. These limits are provisional and will be reviewed in accordance with Resolution 128 (Rev.WRC-2000).

5.552 The allocation of the spectrum for the fixed-satellite service in the bands 42.5-43.5 GHz and 47.2-50.2 GHz for Earth-to-space transmission is greater than that in the band 37.5-39.5 GHz for space-to-Earth transmission in order to accommodate feeder links to broadcasting satellites. Administrations are urged to take all practicable steps to reserve the band 47.2-49.2 GHz for feeder links for the broadcasting-satellite service operating in the band 40.5-42.5 GHz.

5.552A The allocation to the fixed service in the bands 47.2-47.5 GHz and 47.9-48.2 GHz is designated for use by high altitude platform stations. The use of the bands 47.2-47.5 GHz and 47.9-48.2 GHz is subject to the provisions of Resolution 122 (WRC-97) ⁷

⁷ Note by the Secretariat: This Resolution was revised by WRC-2000.

5.553 In the bands 43.5-47 GHz and 66-71 GHz, stations in the land mobile service may be operated subject to not causing harmful interference to the space radiocommunication services to which these bands are allocated (see No. 5.43).

5.554 In the bands 43.5-47 GHz, 66-71 GHz, 95-100 GHz, 123-130 GHz, 191.8-200 GHz and 252-265 GHz, satellite links connecting land stations at specified fixed points are also authorized when used in conjunction with the mobile-satellite service or the radionavigation-satellite service.

5.555 Additional allocation: the band 48.94-49.04 GHz is also allocated to the radio astronomy service on a primary basis.

5.555A The band 50.2-50.4 GHz is also allocated, on a primary basis, to the fixed and mobile services until 1 July 2000.

5.556 In the bands 51.4-54.25 GHz, 58.2-59 GHz and 64-65 GHz, radio astronomy observations may be carried out under national arrangements.

5.556A Use of the bands 54.25-56.9 GHz, 57-58.2 GHz and 59-59.3 GHz by the inter-satellite service is limited to satellites in the geostationary-satellite orbit. The single-entry power flux-density at all altitudes from 0 km to 1000 km above the Earth's surface produced by a station in the inter-satellite service, for all conditions and for all methods of modulation, shall not exceed −147 dB(W/(m² · 100 MHz)) for all angles of arrival.

5.556B Additional allocation: in Japan, the band 54.25-55.78 GHz is also allocated to the mobile service on a primary basis for low-density use.

5.557 Additional allocation: in Japan, the band 55.78-58.2 GHz is also allocated to the radiolocation service on a primary basis.

5.557A In the band 55.78-56.26 GHz, in order to protect stations in the Earth exploration-satellite service (passive), the maximum power density delivered by a transmitter to the antenna of a fixed service station is limited to −26 dB(W/MHz).

5.558 In the bands 55.78-58.2 GHz, 59-64 GHz, 66-71 GHz, 122.25-123 GHz, 130-134 GHz, 167-174.8 GHz and 191.8-200 GHz, stations in the aeronautical mobile service may be operated subject to not causing harmful interference to the inter-satellite service (see No. 5.43).

5.558A Use of the band 56.9-57 GHz by inter-satellite systems is limited to links between satellites in geostationary-satellite orbit and to transmissions from non-geostationary satellites in high-Earth orbit to those in low-Earth orbit. For links between satellites in the geostationary-satellite orbit, the single entry power flux-density at all altitudes from 0 km to 1000 km above the Earth's surface, for all conditions and for all methods of modulation, shall not exceed −147 dB(W/(m² · 100 MHz)) for all angles of arrival.

5.559 In the band 59-64 GHz, airborne radars in the radiolocation service may be operated subject to not causing harmful interference to the inter-satellite service (see No. 5.43).

5.559A The band 75.5-76 GHz is also allocated to the amateur and amateur-satellite services on a primary basis until the year 2006.

5.560 In the band 78-79 GHz radars located on space stations may be operated on a primary basis in the Earth exploration-satellite service and in the space research service.

5.561 In the band 74-76 GHz, stations in the fixed, mobile and broadcasting services shall not cause harmful interference to stations of the fixed-satellite service or stations of the broadcasting-satellite service operating in accordance with the decisions of the appropriate frequency assignment planning conference for the broadcasting-satellite service.

5.561A The 81-81.5 GHz band is also allocated to the amateur and amateur-satellite services on a secondary basis.

5.561B In Japan, use of the band 84-86 GHz, by the fixed-satellite service (Earth-to-space) is limited to feeder links in the broadcasting-satellite service using the geostationary-satellite orbit.

5.562 The use of the band 94-94.1 GHz by the Earth exploration-satellite (active) and space research (active) services is limited to spaceborne cloud radars.

5.562A In the bands 94-94.1 GHz and 130-134 GHz, transmissions from space stations of the Earth exploration-satellite service (active) that are directed into the main beam of a radio astronomy antenna have the potential to damage some radio astronomy receivers. Space agencies operating the transmitters and the radio astronomy stations concerned should mutually plan their operations so as to avoid such occurrences to the maximum extent possible.

5.562B In the bands 105-109.5 GHz, 111.8-114.25 GHz, 155.5-158.5 GHz and 217-226 GHz, the use of this allocation is limited to space-based radio astronomy only.

5.562C Use of the band 116-122.25 GHz by the inter-satellite service is limited to satellites in the geostationary-satellite orbit. The single-entry power flux-density produced by a station in the inter-satellite service, for all conditions and for all methods of modulation, at all altitudes from 0 km to 1000 km above the Earth's surface and in the vicinity of all geostationary orbital positions occupied by passive sensors, shall not exceed −148 dB(W/(m² · MHz)) for all angles of arrival.

5.562D Additional allocation: In Korea (Rep. of), the bands 128-130 GHz, 171-171.6 GHz, 172.2-172.8 GHz and 173.3-174 GHz are also allocated to the radio astronomy service on a primary basis until 2015.

5.562E The allocation to the Earth exploration-satellite service (active) is limited to the band 133.5-134 GHz.

5.562F In the band 155.5-158.5 GHz, the allocation to the Earth exploration-satellite (passive) and space research (passive) services shall terminate on 1 January 2018.

5.562G The date of entry into force of the allocation to the fixed and mobile services in the band 155.5-158.5 GHz shall be 1 January 2018.

5.562H Use of the bands 174.8-182 GHz and 185-190 GHz by the inter-satellite service is limited to satellites in the geostationary-satellite orbit. The single-entry power flux-density produced by a station in the inter-satellite service, for all conditions and for all methods of modulation, at all altitudes from 0 to 1000 km above the Earth's surface and in the vicinity of all geostationary orbital positions occupied by passive sensors, shall not exceed −144 dB(W/(m² · MHz)) for all angles of arrival.

5.563 Additional allocation: in the United Kingdom, the band 182-185 GHz is also allocated to the fixed and mobile services on a primary basis.

5.563A In the bands 200-209 GHz, 235-238 GHz, 250-252 GHz and 265-275 GHz, ground-based passive atmospheric sensing is carried out to monitor atmospheric constituents.

5.563B The band 237.9-238 GHz is also allocated to the Earth exploration-satellite service (active) and the space research service (active) for spaceborne cloud radars only.

5.565 The frequency band 275-1000 GHz may be used by administrations for experimentation with, and development of, various active and passive services. In this band a need has been identified for the following spectral line measurements for passive services:

—Radio astronomy service: 275-323 GHz, 327-371 GHz, 388-424 GHz, 426-442 GHz, 453-510 GHz, 623-711 GHz, 795-909 GHz and 926-945 GHz;

—Earth exploration-satellite service (passive) and space research service (passive): 275-277 GHz, 294-306 GHz, 316-334 GHz, 342-349 GHz, 363-365 GHz, 371-389 GHz, 416-434 GHz, 442-444 GHz, 496-506 GHz, 546-568 GHz, 624-629 GHz, 634-654 GHz, 659-661 GHz, 684-692 GHz, 730-732 GHz, 851-853 GHz and 951-956 GHz.

Future research in this largely unexplored spectral region may yield additional spectral lines and continuum bands of interest to the passive services. Administrations are urged to take all practicable steps to protect these passive services from harmful interference until the date when the allocation Table is established in the above-mentioned frequency band.

* * * * *

United States (US) Footnotes

* * * * *

US342 In making assignments to stations of other services to which the following bands:

13360-13410 kHz, | 22.81-22.86 GHz*, | 174.42-175.02 GHz*,
37.5-38.25 MHz, | 23.07-23.12 GHz*, | 177-177.4 GHz*,
322-328.6 MHz*, | 31.2-31.3 GHz, | 178.2-178.6 GHz*,
1330-1400 MHz*, | 36.43-36.5 GHz*, | 181-181.46 GHz*,
1610.6-1613.8 MHz*, | 42.5-43.5 GHz, | 186.2-186.6 GHz*,
1660-1670 MHz, | 48.94-49.04 GHz*, | 250-251 GHz*,
3260-3267 MHz*, | 93.07-93.27 GHz*, | 257.5-258 GHz*,
3332-3339 MHz*, | 97.88-98.08 GHz*, | 261-265 GHz,
3345.8-3352.5 MHz*, | 140.69-140.98 GHz*, | 262.24-262.76 GHz*,
4825-4835 MHz*, | 144.68-144.98 GHz*, | 265-275 GHz,
14.47-14.5 GHz*, | 145.45-145.75 GHz*, | 265.64-266.16 GHz*,
22.01-22.21 GHz*, | 146.82-147.12 GHz*, | 267.34-267.86 GHz*,
22.21-22.5 GHz, | 150-151 GHz*, | 271.74-272.26 GHz*

are allocated (* indicates radio astronomy use for spectral line observations), all practicable steps shall be taken to protect the radio astronomy service from harmful interference. Emissions from spaceborne or air-borne stations can be particularly serious sources of interference to the radio astronomy service (see Nos. 4.5 and 4.6 and Article 29 of the ITU Radio Regulations).

* * * * *

US356 In the band 13.75-14 GHz, an earth station in the fixed-satellite service shall have a minimum antenna diameter of 4.5 m and the e.i.r.p. of any emission should be at least 68 dBW and should not exceed 85 dBW. In addition the e.i.r.p., averaged over one second, radiated by a station in the radiolocation service towards the geostationary-satellite orbit shall not exceed 59 dBW. Receiving space stations in the fixed-satellite service shall not claim protection from radiolocation transmitting stations operating in accordance with the United States Table of Frequency Allocations. ITU Radio Regulation No. 5.43A does not apply.

* * * * *

US369 Additional allocation: the bands 150-151 GHz, 174.42-175.02 GHz, 177-177.4 GHz, 178.2-178.6 GHz, 181-181.46 GHz, 186.2-186.6 GHz and 257.5-258 GHz are also allocated to the radio astronomy service on a secondary basis for spectral line observations.

US370 The band 5000-5150 MHz is to be used for the operation of the international standard system (microwave landing system) for precision approach and landing. The requirements of this system shall take precedence over other uses of this band. For the use of this band, ITU Radio Regulation No. 5.444A and Resolution 114 (WRC-95) apply.

US371 In the bands 134-142 GHz and 190-191.8 GHz, satellite links connecting land stations at specified fixed points are also authorized when used in conjunction with the mobile-satellite service or the radionavigation-satellite service.

US372 Additional allocation: the bands 140.69-140.98 GHz, 144.68-144.98 GHz, 145.45-145.75 GHz, 146.82-147.12 GHz, 250-251 GHz and 262.24-262.76 GHz are also allocated to the radio astronomy service on a primary basis.

US373 In the bands 116-134 GHz, 174.8-182 GHz and 185-190 GHz, stations in the aeronautical mobile service may be operated subject to not causing harmful interference to the inter-satellite service (see ITU Radio Regulation No. 5.43).

US374 In the band 126-134 GHz, airborne radars in the radiolocation service may be operated subject to not causing harmful interference to the inter-satellite service (see ITU Radio Regulation No. 5.43).

US375 The frequency band 275-400 GHz may be used by administrations for experimentation with, and development of, various active and passive services. In this band a need has been identified for the following spectral line measurements for passive services:

—Radio astronomy service: 278-280 GHz and 343-348 GHz;

—Earth exploration-satellite service (passive) and space research service (passive): 275-277 GHz, 300-302 GHz, 324-326 GHz, 345-347 GHz, 363-365 GHz and 379-381 GHz.

Future research in this largely unexplored spectral region may yield additional spectral lines and continuum bands of interest to the passive services. Administrations are urged to take all practicable steps to protect these passive services from harmful interference until the next competent world radiocommunication conference.

US376 In the bands 95-100 GHz, 134-142 GHz, 190-200 GHz and 252-265 GHz, stations in the land mobile service may be operated subject to not causing harmful interference to the space radiocommunication services to which these bands are allocated (see No. 5.43).

US377 In the band 84-86 GHz, stations in the fixed, mobile and broadcasting services shall not cause harmful interference to broadcasting-satellite stations operating in accordance with the decisions of the appropriate frequency assignment planning conference for the broadcasting-satellite service.

Non-Federal Government (NG) Footnotes

* * * * *

NG143 In the band 11.7-12.2 GHz, protection from harmful interference shall be afforded to transmissions from space stations not in conformance with ITU Radio Regulation 5.488 only if the operations of such space stations impose no unacceptable constraints on operations or orbit locations of space stations in conformance with 5.488.

* * * * *

[FR Doc. 02-21700 Filed 9-20-02; 8:45 am]

BILLING CODE 6712-01-P